DEPARTMENT OF TRANSPORTATION

Federal Aviation Administration

14 CFR Parts 21, 61, 63, 65, 91, 107, 125, and 141

[Docket No.: FAA-2020-0446; Amdt. No(s). Amendment numbers 21-102, 61-145, 63-43, 65-60, 91-357, 107-3, 125-69, and 141-21]

RIN 2120-AL63

Relief for Certain Persons and Operations During the Coronavirus Disease 2019 (COVID-19) Outbreak

AGENCY: Federal Aviation Administration (FAA), Department of Transportation (DOT).

ACTION: Final rule.

SUMMARY: This Special Federal Aviation Regulation (SFAR) provides regulatory relief to persons who have been unable to comply with certain training, recent experience, testing, and checking requirements due to the Coronavirus Disease 2019 (COVID-19) outbreak. This relief allows operators to continue to use pilots and other crewmembers in support of essential operations during this period. Additionally, this SFAR provides regulatory relief to certain persons and pilot schools unable to meet duration and renewal requirements due to the outbreak. This rule also allows certain air carriers and operators to fly temporary overflow aircraft, a need resulting from the outbreak, to a point of storage pursuant to a special flight permit with a continuing authorization.

DATES: Effective April 30, 2020 through March 31, 2021.

ADDRESSES: For information on where to obtain copies of rulemaking documents and other information related to this final rule, see “How to Obtain Additional Information” in the SUPPLEMENTARY INFORMATION section of this document.

FOR FURTHER INFORMATION CONTACT: For technical questions concerning this action for pilots, contact Craig Holmes, General Aviation and Commercial Division; Federal Aviation Administration, 800 Independence Avenue SW, Washington, DC 20591; telephone (202) 267-1100; email 9-AVS-AFS800-COVID19-Correspondence@faa.gov. For technical questions concerning this action for mechanics and special flight permits, contact Kevin Morgan, Aircraft Maintenance Division; Federal Aviation Administration, 800 Independence Avenue SW, Washington, DC 20591; telephone (202) 267-1675; email Kevin.Morgan@faa.gov. For technical questions concerning this action for aircraft dispatchers and flight engineers, contact Theodora Kessaris and Sheri Pippin, Air Transportation Division, Federal Aviation Administration, 800 Independence Avenue SW, Washington, DC 20591; telephone (202) 267-8166; email 9-AVS-AFS200-COVID-Exemptions@faa.gov.

SUPPLEMENTARY INFORMATION:

Good Cause for Immediate Adoption

Section 553(b)(3)(B) of the Administrative Procedure Act (APA) (5 U.S.C.) authorizes agencies to dispense with notice and comment procedures for rules when the agency for “good cause” finds that those procedures are “impracticable, unnecessary, or contrary to the public interest.” In addition, section 553(d) of the APA requires that agencies publish a rule not less than 30 days before its effective date, except a substantive rule that relieves a restriction or “as otherwise provided by the agency for good cause found and published with the rule.” 5 U.S.C. 553(d)(1) and (3).

The FAA finds good cause under 5 U.S.C. 553(b)(3)(B) to waive prior notice and the opportunity for public comment. The provisions in this final rule provide temporary relief to persons who have been unable to meet certain requirements during the national emergency concerning COVID-19. Without this final rule, certain individuals will not be able to continue exercising privileges in support of essential operations due to their inability to satisfy certain training, recent experience, testing, and checking requirements. Additionally, other individuals may—to the extent possible given closures—attempt to satisfy requirements through means contrary to the national social distancing guidelines in order to avoid economic burdens resulting from non-compliance with FAA regulations.

The FAA recognizes that there are aviation operations outside of air carrier and commercial operations conducted under part 119 of title 14 of the Code of Federal Regulations (14 CFR) that are critical during the COVID-19 outbreak, including operations that support essential services and flights that support fighting the outbreak. These operations are likely to face disruption due to a decreased supply of qualified pilots. Since March 2020 and with each month thereafter, a new group of pilots becomes unavailable to perform critical operations because they cannot comply with certain training, recent experience, testing, or checking requirements. This SFAR will provide temporary relief to certain individuals whose qualifications would otherwise lapse, to ensure there are a sufficient number of qualified personnel available to conduct essential aviation activities during this period. The FAA finds that this temporary action is needed to enable individuals to continue to exercise their airman certificate privileges during the national emergency.

This action is also needed to provide immediate notification to individuals facing impending expiration dates for certificates, endorsements, and test results.¹ With the cessation of many non-essential aviation training and testing activities, many individuals have been unable to complete certain activities before encountering expiration dates. Absent the relief in this rule, persons may attempt to satisfy certain requirements to avoid economic burdens associated with non-compliance, despite the fact that compliance would require acting contrary to the national social distancing guidelines. This final rule provides immediate relief from certain duration and renewal requirements to reduce unnecessary risk of exposure and to assure persons that they will not endure economic burdens due to non-compliance with certain regulations.

¹ Certain FAA regulations require a person to take action within a particular timeframe in order to avoid an expiration. For example, a knowledge test result is generally valid for 24 months. A person must take the practical test before the knowledge test result expires or he or she must retake the knowledge test at additional cost.

Accordingly, the FAA finds that providing notice and an opportunity to comment is contrary to the public interest, because it would delay implementation of this final rule, could result in disruption to critical aviation operations, and could increase the incidence of exposure during this public health emergency.

In addition, for the same reasons stated above, the FAA finds good cause to waive the 30-day delay in effective date of this final rule under 5 U.S.C. 553(d)(3) for the SFAR provisions that address the training and qualification requirements. Because the APA also allows a substantive rule that relieves a restriction to become effective in less than 30 days after publication, the FAA finds that the SFAR provisions that provide relief by extending duration and renewal requirements may also be immediately effective. 5 U.S.C. 553(d)(1).

Authority for This Rulemaking

The FAA's authority to issue rules on aviation safety is found in Title 49 of the United States Code (49 U.S.C.). Subtitle I, Section 106 describes the authority of the FAA Administrator. Subtitle VII, Aviation Programs, describes in more detail the scope of the agency's authority.

This rulemaking is promulgated under the authority described in 49 U.S.C. 106(f), which establishes the authority of the Administrator to promulgate regulations and rules; 49 U.S.C. 44701(a)(5), which requires the Administrator to promulgate regulations and minimum standards for other practices, methods, and procedures necessary for safety in air commerce and national security; and 49 U.S.C. 44703(a), which requires the Administrator to prescribe regulations for the issuance of airman certificates when the Administrator finds, after investigation, that an individual is qualified for, and physically able to perform the duties related to, the position authorized by the certificate. This rulemaking provides airmen relief from certain training, recency, testing, and checking requirements, and establishes qualification requirements for airmen seeking to conduct essential operations during the COVID-19 outbreak. For these reasons, this rulemaking is within the scope of the FAA's authority.

List of Abbreviations and Acronyms Frequently Used In This Document

ATP—Airline Transport Pilot

COVID-19—Coronavirus Disease 2019

IFR—Instrument Flight Rules

PIC—Pilot in Command

SIC—Second in Command

UAS—Unmanned Aircraft Systems

Table of Contents

I. Overview of Final Rule

II. Background

III. Discussion of Final Rule

A. Relief From Certain Training, Recency, Testing and Checking Requirements

1. Part 61

a. Second-in-Command Qualifications (§ 61.55)

b. Flight Review (§ 61.56)

c. Recent Flight Experience: Pilot in Command (§ 61.57)

d. Pilot-in-Command Proficiency Check: Operation of an Aircraft That Requires More Than One Pilot Flight Crewmember or Is Turbojet-Powered (§ 61.58)

2. Part 91, Subpart K Flight Crewmember Requirements (§§ 91.1065, 91.1067, 91.1069, 91.1071, 91.1073, 91.1089, 91.1091, 91.1093, 91.1095, 91.1099, 91.1107)

3. Mitsubishi MU-2B Series Special Training, Experience, and Operating Requirements (Part 91, §§ 91.1703, 91.1705, 91.1715)

4. Aeronautical Knowledge Recency (§ 107.65)

5. Part 125 Flight Crewmember Requirements (§§ 125.285, 125.287, 125.289, 125.291, 125.293)

6. Robinson R-22/R-44 Special Training and Experience Requirements (SFAR 73)

B. Relief From Certain Duration and Renewal Requirements

1. Part 61

a. Medical Certificates: Requirement and Duration (§ 61.23)

b. Prerequisites for Practical Tests (§ 61.39)

c. Renewal Requirements for Flight Instructor Certification (§ 61.197)

2. Relief for U.S. Military and Civilian Personnel Who Are Assigned Outside the United States in Support of U.S. Armed Forces Operations (SFAR 100-2)

3. Part 63

a. Certificates and Ratings Required (§ 63.3)

b. Knowledge Requirements (§ 63.35)

4. Part 65

a. [Dispatcher] Knowledge Requirements (§ 65.55)

b. Eligibility Requirements: General (§ 65.71)

c. Inspection Authorization: Renewal (§ 65.93)

d. Military Riggers or Former Military Riggers: Special Certification Rule (§ 65.117)

5. Part 141

a. Requirements for a Pilot School Certificate (§ 141.5)

b. Renewal of Certificates and Ratings (§ 141.27)

C. Other Relief for Special Flight Permits (§ 21.197)

IV. Regulatory Notices and Analyses

V. Executive Order Determinations

VI. How to Obtain Additional Information

I. Overview of Final Rule

The FAA's regulations contain several training, recent experience, testing, and checking requirements that persons must comply with prior to exercising their airman or crewmember privileges. The FAA's regulations also contain duration requirements, such as those pertaining to medical certificates, the validity of knowledge tests, and general procedures for completing a practical test. Additionally, the FAA prescribes renewal requirements for inspection authorization holders, flight instructors, and pilot school certificates. Because of the national social distancing guidelines to prevent the transmission of COVID-19, persons have been unable to comply with several of the FAA's requirements. As a result, “lapses” in qualifications, which occur on the last day of each month, will affect an additional cohort of regulated parties at the end of each month during which stay-at-home advisories are in place and even as routine activities begin to resume. The regulatory relief provided in this SFAR will enable the continuity of aviation operations that are critical during the COVID-19 outbreak, including operations that support essential services and flights that support response efforts. Additionally, the SFAR contains regulatory relief for persons who are unable to satisfy certain requirements, to prevent those persons from enduring unnecessary economic burdens due to circumstances related to the outbreak that are outside of their control.

The FAA's regulations also contain requirements for special flight permits. The COVID-19 public health emergency has resulted in a number of air carriers and operators needing to store aircraft long term. This SFAR provides regulatory relief to temporary overflow aircraft to be flown to a point of storage with a continuing authorization.

This SFAR is effective through March 31, 2021, which is the longest duration of relief under this rule, provided to airman who hold inspection authorizations under part 65. The FAA advises, however, that this date does not reflect the duration for every provision in the SFAR. Each person exercising relief provided by this SFAR should understand the conditions and duration of such relief.

II. Background

Generally, the FAA issues airman certificates to individuals upon successful completion of a knowledge test and practical test. Once an airman holds a certificate, the FAA's regulations contain additional training and qualification requirements that an airman must satisfy to continue exercising the privileges of the certificate or to conduct a particular operation in a specific aircraft.

Part 61 contains various recent experience ² (“recency”) and recurrent training and checking requirements ³ that a pilot must satisfy prior to acting as pilot in command (PIC).⁴ Several regulations require pilots to obtain proficiency checks from someone authorized by the Administrator prior to serving as PIC (or in some cases, second in command (SIC)) of an aircraft.⁵ Part 91, subpart K, and part 125 contain specific qualification requirements for crewmembers.⁶ Part 107 contains an aeronautical knowledge recency requirement that must be met prior to operating a small unmanned aircraft system (UAS).⁷ FAA also has recurrent training and recent experience requirements specific to the Mitsubishi MU-2B ⁸ and recent experience requirements specific to the Robinson R-22/R-44.⁹

² Recent flight experience requirements generally may be accomplished by a pilot without having on board an instructor or other person authorized by the Administrator.

³ Recurrent training and checking requirements generally must be accomplished with an instructor or a person authorized by the Administrator to conduct proficiency checks on board.

⁴ 14 CFR 61.56 and 61.57.

⁵ 14 CFR 61.55 and 61.58.

⁶ 14 CFR 91.1065, 91.1067, 91.1069, 91.1071, 91.1073, 91.1089, 91.1091, 91.1093, 91.1095, 91.1099, 91.1107, 125.285, 125.287, 125.289, 125.291, and 125.293.

⁷ 14 CFR 107.65.

⁸ 14 CFR 91.1703, 91.1705, and 91.1715.

⁹ SFAR No. 73.

In addition, the FAA prescribes several duration requirements, such as those pertaining to the validity of knowledge tests and procedures for completing practical tests.¹⁰ The FAA's regulations also contain renewal requirements for persons holding flight instructor certificates issued under part 61 and for schools holding pilot school certificates and provisional pilot school certificates issued under part 141.

¹⁰ 14 CFR 61.39 and 61.43.

On January 31, 2020, the Secretary of Health and Human Services declared a public health emergency for the United States to aid in responding to COVID-19. On March 13, 2020, the President declared that the COVID-19 outbreak in the United States constitutes a national emergency. COVID-19 cases have been reported in all 50 States as well as the District of Columbia, Puerto Rico, Guam, the Northern Mariana Islands, and the U.S. Virgin Islands. On March 16, 2020, the President and the White House Coronavirus Task Force announced a program called “15 Days to Slow the Spread,” ¹¹ a nationwide effort to slow the spread of COVID-19 in the United States through the implementation of social distancing at all levels of society. On March 31, 2020, the President and the White House Coronavirus Task Force announced “30 Days to Slow the Spread,” which extended the social distancing guidelines for 30 days.¹²

¹¹ The White House & Centers for Disease Control and Prevention, 15 Days to Slow the Spread (Mar. 16, 2020), available at https://www.whitehouse.gov/articles/15-days-slow-spread/.

¹² The White House & Centers for Disease Control and Prevention, 30 Days to Slow the Spread (Mar. 31, 2020), available at https://www.whitehouse.gov/wp-content/uploads/2020/03/03.16.20_coronavirus-guidance_8.5x11_315PM.pdf.

The FAA has received several letters from industry associations petitioning the FAA for relief and extensions from certain requirements during the COVID-19 public health emergency.¹³ In a letter from the Aircraft Owners and Pilots Association (AOPA), National Business Aviation Association (NBAA), General Aviation Manufacturers Association (GAMA) and Experimental Aircraft Association (EAA),¹⁴ the associations asked the FAA to provide the maximum amount of flexibility within its authority by granting exemptions or relief from certain regulatory requirements applicable to general aviation pilots.¹⁵

¹³ These letters are available in the rulemaking docket.

¹⁴ Letter from AOPA, NBAA, GAMA and EAA, to Honorable Steve Dickson, Administrator, FAA (March 20, 2020) (available in the rulemaking docket).

¹⁵ For a complete list of the relief requested, please see the associations' letter, which is posted in the rulemaking docket.

In another letter,¹⁶ NBAA noted that private and recreational aircraft are used by businesses around the country to provide essential support.¹⁷ NBAA provided examples of critical operations that included medical equipment manufacturers' transportation of equipment, the use small aircraft to observe the condition of power lines and pipelines, and the performance of aerial operations to sustain agriculture during planting season. NBAA cited a February PricewaterhouseCoopers LLP study that concluded general aviation contributes 1.1 million jobs and $247 billion in economic activity to the U.S. economy. NBAA emphasized that it is imperative to ensure continuity of these operations as our Nation recovers from the COVID-19 emergency.¹⁸

¹⁶ Letter from Brian Koester, Director of Flight Operations and Regulations, NBAA, to Mr. Bruce DeCleene, Flight Standards Service, FAA (March 31, 2020) (available in the rulemaking docket).

¹⁷ https://www.cisa.gov/transportation-systems-sector.

¹⁸ NBAA expressly sought relief for part 91 (including part 91, subpart K) and part 125 operators who are unable to comply with the PIC proficiency check requirements of § 61.58 during the public health emergency.

In another letter, several industry associations ¹⁹ sought broad relief on behalf of the general aviation industry.²⁰ The associations recognized the FAA's efforts aimed at air carrier operations, training centers, pilot schools, manufacturers, and maintenance providers to sustain operations through exemptions and deviations from regulations and policies. The associations emphasized, however, that the general aviation industry also needs relief to ensure the continuity of operations and commerce during the COVID-19 public health emergency.²¹ The associations noted that, internationally, other civil aviation authorities have already provided exemptions to both commercial and noncommercial operators.²²

¹⁹ This letter was signed by the Aircraft Owners and Pilots Association, Air Medical Operators Association, Experimental Aircraft Association, General Aviation Manufacturers Association, Helicopter Association International, National Agricultural Aviation Association, National Air Transportation Association, and National Business Aviation Association.

²⁰ Joint industry letter to Mr. Ali Bahrami, Associate Administrator for Aviation Safety, FAA (April 1, 2020) (available in the rulemaking docket).

²¹ The associations sought extensions from the timelines set forth in several regulations including, but not limited to, part 61 currency requirements, flight instructor renewal requirements, expiration of knowledge tests, and duration requirements for completing practical tests.

²² The letter cited to relief provided by civil aviation authorities of Brazil, the European Union, Italy, and the United Kingdom. The letter as posted in the rulemaking docket contains links to access the documents issued by these foreign civil aviation authorities.

The industry associations also explained how various general aviation operations can be critical to the Nation and can play a crucial role in the U.S. and worldwide economy. For example, they noted that general aviation directly connects more than 5,000 public airports compared to the 500 airports used by scheduled airlines. Additionally, the associations stressed the importance of general aviation operations for lifesaving air medical missions, the movement of essential personnel and medical equipment, aerial applications for crops, forestry treatments, firefighting, and eradication of mosquitoes and other disease-carrying pests. The associations further emphasized the importance of rotorcraft operations due to the vertical lift capability, which expands the range of locations at which operations can take place to support the movement of people, supplies, and critical services. The associations also noted that rotorcraft support operations of a wide range of public safety service providers, including law enforcement, firefighting, and search and rescue.

III. Discussion of Final Rule

Without the relief provided in this SFAR, certain persons are at risk of ceasing operations due to their inability to satisfy training and qualification requirements due to disruptions caused by the COVID-19 outbreak. Airmen have experienced difficulty complying with certain training, recency, checking, testing, duration, and renewal requirements as a result of stay-at-home advisories and social distancing implemented to slow the spread of the virus. To comply with many of these requirements, an airman would have been required to be in close proximity to another individual, often in a small, confined space such as the flight deck of an aircraft or inside a simulator. As such, the airman would have had to increase the risk of transmission of the virus.

Even as routine activity begins to resume, the disruption caused by such public health measures has impeded and will continue to impede training and qualification activities in the near-term, resulting in airmen qualifications lapsing either because persons cannot access training facilities or FAA inspectors are unavailable to conduct required tests, checks, or observations. Furthermore, classroom-training environments, such as those provided by part 141 pilot schools, may continue to introduce personnel to unnecessary risks of exposure. To enable the continuity of aviation operations that are critical to the Nation, the FAA finds it necessary to provide short-term relief from certain training, qualification, duration, and renewal requirements. Because this SFAR addresses multiple regulations from several parts of the Federal Aviation Regulations, the FAA has provided the necessary background information in the relevant sections of the Discussion of the Final Rule. The FAA emphasizes that, apart from the limited relief granted in this SFAR, individuals must continue to comply with all applicable FAA regulations.²³

²³ The FAA notes, in particular, that § 61.51(a) requires an individual to log training and aeronautical experience used to meet the requirements for a certificate, rating, or flight review and aeronautical experience required for meeting the recent flight experience requirements of part 61. Likewise, § 61.51(i) requires a person to present their pilot certificate, medical certificate, logbook, or any other record required by part 61 for inspection upon a reasonable request by (i) the Administrator; (ii) an authorized representative from the National Transportation Safety Board; or (iii) any Federal, State, or local law enforcement officer.

Each of the following sections explains the relief being granted, the airmen or air agencies eligible for the relief, and the mitigations the FAA finds necessary to ensure aviation safety is maintained.²⁴ The temporary relief provided here reflects and is limited to the extraordinary circumstances of the COVID-19 outbreak.

²⁴ As explained further in Section IV.F of this SFAR (International Compatibility), certain relief provided in this SFAR does not conform with the International Civil Aviation Organization (ICAO) Standards and Recommended Practices (SARPs). Certificate holders or operators may dispatch or release flights and pilots and crewmembers may operate outside of the United States under this SFAR, unless otherwise prohibited by a foreign country. For international operations where pilots and crewmembers will exercise the relief identified here, anyone exercising this relief must have access to the SFAR when outside the United States and present a copy of this SFAR for inspection upon request by a foreign civil aviation authority.

A. Relief From Certain Training, Recency, Testing and Checking Requirements

As noted in the letters from industry, general aviation operators and crewmembers can be a key part of the U.S. infrastructure. The support that general aviation provides is particularly critical at this time given the unprecedented disruption caused by the public health emergency. Because public health measures requiring or recommending people to stay at home resulted in the inability of airmen to complete certain regulatory requirements and such disruptions are likely to continue in the short-term as routine activities begin to resume, the FAA finds temporary relief from some requirements is warranted to maintain critical operations and reduce burdens on airmen.

Relief granted in this section to certain eligible pilots and crewmembers applies only to persons conducting specific operations for which the FAA has determined relief is appropriate.

The relief applies to any operation that requires the pilot to hold at least a commercial pilot certificate. This provision will support the continuity of essential commercial operations, which include aerial observation of critical infrastructure, aerial applications (e.g., crops), and private carriage of medical supplies and equipment, which are conducted under part 91, subpart K, and parts 125, 133, and 137.²⁵

²⁵ In accordance with § 137.19, a private operator pilot that holds a private pilot certificate is also eligible for relief.

Additionally, this relief applies to some operations conducted by pilots exercising private pilot privileges, provided the pilot has at least 500 hours of total time as a pilot of which 400 hours is as PIC and 50 of the PIC hours were accrued in the last 12 calendar months. The kinds of operations permitted are those that are:

• Incidental to business or employment,

• in support of family medical needs or to transport essential goods for personal use,

• necessary to fly an aircraft to a location in order to meet a requirement of this chapter, or

• a flight to transport essential goods and/or medical supplies to support public health needs.

This SFAR also extends to pilots conducting charitable medical flights for a volunteer pilot organization pursuant to an exemption issued under part 11, provided the pilots continue to comply with the conditions and limitations of the exemption. For flights conducted by private pilots under this relief, no one may be carried on the aircraft unless that person is essential to the purpose of the flight, such as when transporting doctors for the purpose of providing medical care. This relief does not permit private pilots to conduct these operations for compensation or hire unless permitted under the exception in § 61.113(b), (d), (e), or (h), or by exemption.²⁶

²⁶ The FAA has consistently construed compensation under § 61.113(a) broadly. Compensation does not require a profit, profit motive, or the actual payment of funds. Rather, compensation is the receipt of anything of value, including the reimbursement of expenses. For additional discussion, the FAA has issued legal interpretations with respect to what constitutes compensation. Furthermore, nothing in this SFAR relieves a person from the requirement to hold a part 119 certificate if applicable FAA regulations require a part 119 certificate. See generally FAA Advisory Circular 120-12A (Apr. 24, 1986) and FAA Advisory Circular 61-142 (Feb. 25, 2020).

This relief also extends to flight attendant crewmembers, check pilots, and flight instructors under part 91, subpart K, and part 125. Finally, this relief applies to operations conducted under part 107 of this chapter by a person who holds a remote pilot certificate issued under part 107. Pilots exercising commercial pilot privileges have at least 190 hours of flight time as a pilot and have been tested to a higher standard than private pilots. The eligibility requirements for private pilots are consistent with conditions and limitations imposed on private pilots conducting charitable flights under a part 11 exemption.

This SFAR addresses crewmember qualifications that have already lapsed as well as those that may lapse in the next few months, provided the crewmember is eligible for the relief and satisfies the safety mitigations before exercising their privileges. The eligibility requirements and mitigations are discussed more fully in each subsection.

1. Part 61

Part 61 prescribes the requirements for pilot, flight instructor, and ground instructor certification, which include training, recency, testing, and checking requirements. The FAA is providing relief for second-in-command (SIC) qualifications, pilot flight reviews, specific recency of experience requirements, and the PIC proficiency check for pilots that operate aircraft that require more than one pilot flight crewmember or are turbojet-powered. The specific relief is described in paragraphs A.1.a. through A.1.d.

a. Second-in-Command Qualifications (§ 61.55)

Section 61.55(b) states that no person may serve as SIC of an aircraft certificated for more than one required pilot flight crewmember or in operations requiring a SIC unless that person has, within the previous 12 calendar months, become familiar with certain information specific to the type of aircraft and performed and logged pilot time in the type of aircraft or in a flight simulator that represents the type of aircraft.²⁷ Although paragraph (c) provides SICs a grace month ²⁸ for accomplishing this recency requirement, the public health emergency is creating challenges for accomplishing this requirement even within that additional timeframe.

²⁷ Section 61.55(b)(1)(i) specifies SICs must become familiar with operational procedures applicable to the powerplant, equipment, and systems; performance specifications and limitations; normal, abnormal, and emergency operating procedures; flight manual; and placards and markings. As prescribed in paragraph (b)(2), the SIC must also log pilot time and perform at least three takeoffs and three landings to a full stop as the sole manipulator of the flight controls; engine-out procedures and maneuvering with an engine out while executing the duties of pilot in command; and receive crew resource management training.

²⁸ The “grace month” is the month after the month in which training is due.

As a result, the FAA finds, under the extraordinary circumstances of the COVID-19 outbreak, that allowing eligible SICs two additional grace months for completing the requirements of § 61.55(b) would not present additional risk to aviation safety that cannot be mitigated, as explained in the next paragraph. The additional grace months are available to pilots whose base month falls in March, April, May, or June 2020. The “base month” is the month in which training is due. The “grace months” are the months after the month in which training is due, during which the pilot is still eligible to maintain recency. Under this SFAR, pilots will have a total of three grace months after the base month to accomplish the requirements of § 61.55(b).²⁹ If these requirements are completed during the grace period, they will be considered to have been completed during the base month.

²⁹ The three grace months consist of the grace month provided in § 61.55(c) and the two additional grace months provided by this SFAR.

To attain the two additional grace months, eligible pilots must complete the following requirements prior to serving as an SIC: (1) Review the information for the specific type of aircraft for which they are seeking SIC privileges as prescribed in § 61.55(b)(1)(i)-(v); and (2) have logged at least three takeoffs and landings to a full stop as the sole manipulator of the flight controls of the aircraft they will serve as an SIC in within the 180 days prior to serving as an SIC in that aircraft.

b. Flight Review (§ 61.56)

Section 61.56(c) states that no person may act as PIC of an aircraft, unless since the beginning of the 24th calendar month before the month in which that person acts as PIC, that person has accomplished a flight review in an aircraft for which that person is rated and the person's logbook has been endorsed for that review by an authorized instructor certifying the review was satisfactorily completed.³⁰

³⁰ Section 61.56(a) requires the flight review to consist of a minimum of 1 hour of flight training and 1 hour of ground training.

The FAA finds, under the extraordinary circumstances of the COVID-19 outbreak, that extending the 24 calendar month requirement of § 61.56(c) by up to three calendar months will not adversely affect safety, provided the extension applies to active pilots and certain risk mitigations are met. The three calendar month extension applies to pilots who were current to act as PIC of an aircraft in March 2020 and whose flight review was due in March 2020 through June 2020. To mitigate any safety risk, the pilot must have logged at least 10 hours of PIC time within the twelve calendar months preceding the month the flight review was due. This flight time must be obtained in an aircraft for which that pilot is rated.³¹ In addition, eligible pilots will need to complete FAA Safety Team online courses totaling at least three WINGS credits.³² The courses must have been completed in January 2020 or later to meet this requirement. Completion of the safety courses demonstrates continued learning and pilot professional development.

³¹ The FAA notes that requiring the flight time to be completed in an aircraft for which the pilot is rated is consistent with the requirement in § 61.56 for the flight review to be accomplished in an aircraft for which the pilot is rated.

³² The WINGS—Pilot Proficiency Program was developed to address accident causal factors in general aviation by promoting continuous learning and training through online courses, seminars, and other events along with opportunities to fly with an instructor. The FAA and third-party vendors offer courses, many of which are free, for credit. Eligible WINGS courses for pilots can be found on the FAA Safety Team website at www.faasafety.gov. The credit assigned to each course is listed in the catalog of available courses.

c. Recent Flight Experience: Pilot in Command (§ 61.57)

Section 61.57 contains the recent flight experience requirements to serve as a PIC in an aircraft under various conditions. These conditions include the recency requirements for carrying passengers during day and night operations and operations under instrument flight rules (IFR). After reviewing the recent flight experience requirements of this section, the FAA has determined that only relief for instrument recency is warranted.

Section 61.57(c) specifies the requirements to serve as a PIC under IFR or weather conditions less than the minimums prescribed for visual flight rules (VFR). To be current under § 61.57(c),³³ a pilot must have performed and logged, within the six calendar months preceding the month of the flight, six instrument approaches, holding procedures and tasks, and intercepting and tracking courses through the use of navigational electronic systems. This experience can be performed in actual weather conditions or under simulated conditions using a view-limiting device in an airplane, powered-lift, helicopter, or airship, as appropriate, or in a full flight simulator (FFS), flight training device (FTD), or aviation training device (ATD) if the device represents the category of aircraft for the instrument rating privileges to be maintained.³⁴

³³ Section 61.57(c)(1) contains the requirements for maintaining instrument experience in an airplane, powered-lift, helicopter, or airship. Section 61.57(c)(3) contains the requirements for maintaining instrument experience in a glider.

³⁴ Section 61.57(c)(2) further allows the person to complete the instrument experience required by paragraph (c)(1) in any combination of aircraft, FFS, FTD, or ATD.

If a pilot is unable to establish instrument recency in accordance with § 61.57(c), paragraph (d) prescribes how a pilot may reestablish instrument recency. If a pilot does not have the required approaches, holding, and intercepting and tracking courses in the preceding six calendar months, the pilot has an additional six calendar months to obtain the required experience by flying with a view-limiting device and a safety pilot ³⁵ or using a training device. During this period, the pilot may not serve as the PIC under IFR or weather conditions less than the minimums prescribed for VFR. If the pilot fails to meet the instrument experience requirements for more than six calendar months, the pilot must complete an instrument proficiency check administered by an authorized instructor, company check pilot, designated pilot examiner, or person approved by the Administrator.³⁶

³⁵ A safety pilot is a person who occupies a control seat in an aircraft and maintains a visual watch when the pilot manipulating the flight controls of the aircraft is using a view-limiting device to simulate flight by reference to instruments. 14 CFR 91.109(c).

³⁶ Section 61.57(d)(3) contains the list of persons who may administer an instrument proficiency check.

The FAA finds, under the extraordinary circumstances of the COVID-19 outbreak, that relief for instrument recency is appropriate under certain conditions. The FAA is extending the six calendar month requirement of § 61.57(c)(1) by an additional three calendar months. This will enable a pilot to continue exercising instrument privileges, provided the pilot has performed the required tasks within the nine calendar months preceding the month of the flight, instead of the preceding six calendar months.

To be eligible for the relief, a pilot will need to have some recent experience in instrument flight. More specifically, the FAA is requiring that the pilot have logged, in the preceding six calendar months, three instrument approaches in actual weather conditions, or under simulated conditions using a view-limiting device. Eligible pilots may exercise the relief in this SFAR through June 30, 2020. After that date, a pilot must be current in accordance with § 61.57(c). If the pilot does not meet the instrument experience requirements before June 30, 2020, the pilot retains the ability to reestablish recency in accordance with § 61.57(d). However, the pilot will no longer have six months to reestablish instrument recency. Instead, the number of months available for a pilot to attain the instrument experience prior to requiring completion of the instrument proficiency check will depend on when the person last established instrument recency in accordance with § 61.57(c).³⁷

³⁷ For example, if the pilot performed and logged the tasks required by § 61.57(c)(1) in October 2019, that pilot may continue exercising instrument privileges under this SFAR after April 2020, provided the pilot meets the qualification requirements. This SFAR would allow that pilot to continue acting as PIC under IFR or in weather conditions less than the minimums prescribed for VFR until June 30, 2020. After June 30, 2020, that pilot would be required to comply with § 61.57(c). As previously mentioned, § 61.57(d) gives a pilot who has failed to meet the instrument experience requirements of paragraph (c) a grace period of six calendar months to reestablish instrument recency. A pilot who does not reestablish instrument recency during those additional six calendar months may reestablish instrument recency only by completing an instrument proficiency check. Therefore, if the pilot in this hypothetical fails to complete the tasks required by § 61.57(c)(1) by June 30, 2020, that pilot would have four calendar months (until October 31, 2020) available to attain the instrument experience prior to requiring completion of an instrument proficiency check.

d. Pilot-in-Command Proficiency Check: Operation of an Aircraft That Requires More Than One Pilot Flight Crewmember or Is Turbojet-Powered (§ 61.58)

Section 61.58 requires a PIC proficiency check for those pilots that fly an aircraft that requires more than one pilot flight crewmember or is turbojet-powered. Paragraph (a)(1) requires a pilot to complete a PIC proficiency check within the preceding twelve calendar months in an aircraft that is type certificated for more than one required pilot flight crewmember or is turbojet-powered. In addition, paragraph (a)(2) requires a pilot to accomplish, within the preceding 24 calendar months, a PIC proficiency check in the particular type of aircraft in which that person will serve as PIC that is type-certificated for more than one required pilot flight crewmember or is turbojet-powered.³⁸ Paragraph (i) establishes a grace month for completing the PIC proficiency check. Specifically, it allows the check to be completed in the month prior to or the month after the month in which the check is due.

³⁸ In accordance with § 61.58(b), this section does not apply to persons conducting operations under subpart K of part 91, or part 121, 125, 133, 135, or 137. In accordance with § 61.57(c), the PIC proficiency check given in accordance with subpart K of part 91, parts 121, 125, or 135 may be used to satisfy the requirements of this section.

The FAA finds, under the extraordinary circumstances of the COVID-19 outbreak, that allowing two additional grace months for completing the PIC proficiency checks required by § 61.58(a)(1) and (2) does not present a risk to aviation safety that cannot be mitigated, as explained in the next paragraph. Eligible pilots are those pilots who are required to complete a proficiency check in accordance with § 61.58(a)(1) and whose base month falls within the time period of March 2020 through June 2020. In accordance with § 61.58(a)(2), pilots who have not completed a proficiency check in the aircraft they intend to fly within the preceding 24 calendar months and whose base month falls between March 2020 and June 2020, are also eligible for the relief in this SFAR.³⁹ Pilots will have a total of three grace months after the base month to accomplish the PIC proficiency check required by § 61.58(a)(1) and (2).⁴⁰ A PIC proficiency check completed during the grace period will be considered to have been completed in the base month.

³⁹ If a pilot's base month is June 2020, this SFAR extends the validity through September 30, 2020.

⁴⁰ This three-month grace period includes the grace month that is already provided by § 61.58(i) and the two additional grace months provided by this SFAR.

To obtain the two additional grace months provided by this SFAR, a pilot must meet certain qualification requirements to ensure the pilot has recent flight experience and is knowledgeable on the procedures and performance limitations for the specific type of aircraft the PIC will operate. First, an eligible pilot must meet the recent flight experience required by § 61.57 as applicable to the flight being conducted.⁴¹ Additionally, an eligible pilot must have reviewed, within the previous three calendar months preceding the month of the flight, the following for each specific aircraft type for which PIC privileges are desired:

⁴¹ A pilot may use the relief to § 61.57 for instrument recency in conjunction with the relief provided for § 61.58 in this SFAR.

a. Operational procedures applicable to the powerplant, equipment, and systems.

b. Performance specifications and limitations.

c. Normal, abnormal, and emergency operating procedures.

d. Flight manual.

e. Placards and markings.

2. Part 91, Subpart K Flight Crewmember Requirements (§§ 91.1065, 91.1067, 91.1069, 91.1071, 91.1073, 91.1089, 91.1091, 91.1093, 91.1095, 91.1099, 91.1107)

Part 91, subpart K, prescribes the additional rules that apply to private, general aviation fractional ownership programs. The subpart provides the regulatory definitions and safety standards for fractional ownership programs; defines the program and program elements; allocates operational control responsibilities and authority to the owners and program manager; and provides increased operational and maintenance safety requirements for fractional ownership programs. There are currently nine fractional ownership programs operating under part 91, subpart K. They range in size from managers with two aircraft to managers with over 500 airplanes and helicopters.

The crewmember testing and checking requirements are established in §§ 91.1065, 91.1067, 91.1069, and 91.1071. Recurrent training requirements for crewmembers are specified in §§ 91.1073, 91.1099, and 91.1107. These requirements cover the following activities and timelines for completion:

• Section 91.1065—pilot knowledge testing and competency checking requirements (completed within the previous twelve months before the pilot serves as a required crewmember);

• Section 91.1067—flight attendant crewmember testing requirements (completed within the previous twelve months before serving as a flight attendant crewmember);

• Section 91.1069(a) and (b)—instrument proficiency checking requirements for PICs (completed within the previous six months) and SICs (completed in previous twelve months);

• Section 91.1099—initial or recurrent training (completed within the previous twelve months before serving as a crewmember);

• Section 91.1107—crewmember recurrent training (completed within the previous twelve months before serving as a crewmember);

• Section 91.1069(c)—instrument approach procedure recency (demonstrated that type of approach within previous six months);

• Section 91.1071(a)—creates a grace month that allows a crewmember test or flight check required by subpart K to be completed in the month before or after the month it is required; and

• Section 91.1073(b)—creates a grace month that allows crewmember recurrent training required by subpart K to be completed in the month before or after the month it is required.

Subpart K of part 91 also contains instructor and check pilot qualifications in §§ 91.1089 through 91.1095. Sections 91.1089 and 91.1091 require check pilots and flight instructors qualified in simulators to fly at least two flight segments as a required crewmember for the type, class, or category of aircraft involved within the previous twelve-month period or complete an approved line-observation program within the period prescribed by that program. Paragraph (g) in both sections provides a grace month stating that the flight segments or line observations are considered complete if completed in the month before or the month after in which they are due. Sections 91.1093 and 91.1095 require that a person who conducts checking or instruction have satisfactorily completed an observation check within the preceding 24 months. Paragraph (b) in both sections also provides a grace month for the checks to be completed.

The FAA finds, under the extraordinary circumstances of the COVID-19 outbreak, that allowing a total of three grace months after the base month for completing the covered training, testing, and checking requirements for crewmembers, check pilots, and flight instructors whose base month is in March, April, May, or June 2020—many of which already permit one grace month—does not present a risk to aviation safety that cannot be mitigated under the conditions of this SFAR. Management specifications holders must conduct a safety analysis and provide appropriate mitigations in an acceptable plan to their FAA principal inspector. This plan would address any potential risk introduced by extending crewmember, check pilot, and flight instructor qualifications, training, and checking. The plan must ensure crewmembers remain adequately trained and currently proficient for each aircraft, crewmember position, and type of operation in which the crewmember serves in accordance with § 91.1081(e). The relief applies to requirements for currently qualified crewmembers, check pilots, and flight instructors only. It does not apply to requirements for the training and qualification of new personnel.

3. Mitsubishi MU-2B Series Special Training, Experience, and Operating Requirements (§§ 91.1703, 91.1705, 91.1715)

Subpart N of part 91 contains training, experience, and operating requirements specific to the Mitsubishi MU-2B series airplane. Except as specified in § 91.1703(b),⁴² a person may not manipulate the controls, act as PIC, or act as SIC of a MU-2B series airplane for the purpose of flight unless that person satisfies certain ground and flight training requirements,⁴³ including recurrent training requirements, in an FAA-approved MU-2B training program that meets the standards of subpart N of part 91. This requirement is contained in § 91.1705(a)(1).⁴⁴

⁴² Section 91.1703(b) states that a person who does not meet the requirements of subpart N of part 91 may manipulate the controls of a Mitsubishi MU-2B series airplane if a PIC who meets the requirements of subpart N of part 91 is occupying a pilot station, no passengers or cargo are carried on board the airplane, and the flight is being conducted for one of the reasons specified in § 91.1703(b)(1) through (3).

⁴³ The requirements for ground and flight training are on initial/transition, requalification, recurrent, and differences training. 14 CFR 91.1705(a)(1).

⁴⁴ Section 91.1705(a)(2) requires the person's logbook to have been endorsed in accordance with § 91.1705(f).

In addition, § 91.1705(b)(1) states that, except as specified in § 91.1703(b), a person may not manipulate the controls, act as PIC, or act as SIC, of a MU-2B series airplane for the purpose of flight unless that person satisfactorily completes, if applicable, recurrent pilot training on the special emphasis items and all items listed in the Training Course Final Phase Check in accordance with an FAA-approved MU-2B training program that meets the standards of subpart N of part 91.⁴⁵

⁴⁵ Section 91.1705(b)(2) also requires the person's logbook to have been endorsed in accordance with § 91.1705(f).

Section 91.1703(e) requires a person to complete recurrent training within the preceding twelve months without the option of a grace month.⁴⁶ Under § 91.1705(e), however, a person has one grace month to comply with the training requirements of § 91.1705(a) or (b). Therefore, § 91.1705(e) allows a person to accomplish the recurrent training one month after the month it is due.

⁴⁶ Successful completion of initial/transition training or requalification training within the preceding twelve months satisfies the requirement of recurrent training. A person must successfully complete initial/transition training or requalification training before being eligible to receive recurrent training. 14 CFR 91.1703(e).

Section 91.1715(c) stipulates that completion of a flight review to satisfy the requirements of § 61.56 is valid for operation of a Mitsubishi MU-2B series airplane only if that flight review is conducted in a Mitsubishi MU-2B series airplane, or an MU-2B simulator approved for landings with an approved course conducted under part 142.

Under the extraordinary circumstances of the COVID-19 outbreak, the FAA supports relief for certain experienced pilots flying MU-2B series airplanes. This relief is not applicable to pilots that are required to complete initial/transition or requalification training in an MU-2B series airplane,⁴⁷ because these pilots could not meet the qualification requirements.

⁴⁷ See § 91.1703(c) or (d).

Under this SFAR, a person may obtain two additional grace months to complete the recurrent training requirements.⁴⁸ To be eligible for this relief, pilots must be qualified under part 91, subpart N, and their base month for completing the recurrent training must fall in March, April, May, or June 2020. If a pilot completes the recurrent training requirements within the grace period provided by this SFAR, the requirements will be considered to have been completed in the base month. Additionally, to ensure there is no adverse impact to safety, the FAA has determined it is necessary to impose certain qualification requirements on pilots seeking to exercise this relief. The qualification requirements are intended to serve as risk mitigations to ensure that pilots exercising the temporary relief under this SFAR are active pilots with recent flight experience in the MU-2B. To exercise the relief, a pilot must also have a minimum of 10 hours of flight time in an MU-2B series airplane within the previous twelve calendar months of the base month. Three of those hours must be obtained within three calendar months preceding the base month. In addition, as required by § 91.1715(a), the pilot must have at least three takeoffs and landings to a full stop as sole manipulator of the controls in an MU-2B series airplane within the last ninety days prior to the flight.

⁴⁸ This means a person will have a total of three grace months after the due month, because § 91.1705(e) already provides one grace month. The “grace months” are months after the month in which training is due, during which the pilot is still eligible to meet the recurrent training requirements.

Furthermore, prior to manipulating the controls of an MU-2B series airplane in accordance with this SFAR, pilots must complete three hours of self-study since January 1, 2020, and preceding the date of the flight. This self-study must include the ground training required by § 91.1705(h)(1) and the special emphasis items listed in the approved MU-2B training program last completed. In addition, pilots must review the limitations, procedures, aircraft performance, and MU-2B Cockpit Checklist procedures applicable to the flight training curriculum required by § 91.1705(h)(2) for the MU-2B model flown and the current general operating and flight rules of part 91. Consistent with the flight review requirements of this SFAR, MU-2B series pilots must complete online courses for three WINGS credits. These courses must have been completed since January 1, 2020.

4. Aeronautical Knowledge Recency (§ 107.65)

Section 107.65 requires remote pilots certificated under part 107 to establish recency of knowledge every 24 calendar months. To meet the recency of knowledge requirement per § 107.65(a) or (b), remote pilots must pass an FAA knowledge test at a knowledge testing center. The initial and recurrent knowledge tests required by § 107.65(a) or (b) cover the comprehensive list of knowledge areas specified in § 107.73(a) or (b), respectively. Section 107.65(c) allows remote pilots who are also certificated under part 61 and have a current flight review in accordance with § 61.56 to complete online training to meet aeronautical knowledge recency. The initial or recurrent training course covers the condensed list of knowledge areas specified in § 107.74(a) or (b), respectively, because the part 61 pilot who has a current flight review has already demonstrated knowledge of many of the topic areas tested on the UAS knowledge test.⁴⁹

⁴⁹ Final Rule, Operation and Certification of Small Unmanned Aircraft Systems, 81 FR 42063, 42164 (Jun. 28 (2016).

Even if open, some knowledge testing centers may introduce airmen to risks of exposure to COVID-19. The inability of part 107 operators to remain current could have a negative impact on a community's ability to support the safe inspection of infrastructure, including power lines, fire and rescue, flood responses, law enforcement, and overall public safety.

Under the extraordinary circumstances of the COVID-19 outbreak, eligible remote pilots who would normally establish recency of knowledge in accordance with § 107.65(a) or (b) may complete online training as an alternative if required to establish recency between April 2020 and June 2020. The remote pilot may complete the FAA-developed initial or recurrent online training courses ⁵⁰ at www.faasafety.gov one time to establish knowledge recency for six calendar months.⁵¹ As previously stated, the initial or recurrent online training course covers a condensed list of UAS-specific knowledge areas because it is intended for persons who hold part 61 pilot certificates and satisfy the flight review requirements of § 61.56. The FAA finds that, for a limited duration of time, allowing remote pilots to complete one of these online training courses is an adequate alternative to passing a knowledge test. However, because these courses do not include all of the knowledge areas under § 107.73(a) or (b) that a remote pilot is required to be tested on every 24 calendar months, the remote pilot will need to establish knowledge recency in accordance with § 107.65 at the conclusion of the six calendar months. Remote pilots who qualify to establish recency of aeronautical knowledge per § 107.65(c) are not included in this relief. Pilots who use the relief from § 61.56 in this SFAR may establish recency of aeronautical knowledge per § 107.65(c) and retain remote pilot privileges for 24 calendar months.

⁵⁰ ALC-451 (Part 107 Small Unmanned Aircraft Systems (small UAS) Initial); ALC-515 (Part 107 Small Unmanned Aircraft Systems (small UAS) Recurrent).

⁵¹ On February 13, 2019, the FAA published an NPRM that, if adopted, would update the regulations that govern part 107 operations. In the NPRM, the FAA proposed to amend § 107.65(b) to allow a remote pilot to meet the recency requirements by completing recurrent training (rather than a recurrent knowledge test) covering the areas of knowledge specified in § 107.73. The FAA is therefore actively engaged in rulemaking that, if adopted, would provide the option for taking an online recurrent training course in lieu of a UAS knowledge test to all part 107 certificate holders. The proposed recurrent training course would cover the comprehensive list of knowledge areas set forth in § 107.73, rather than the condensed list of knowledge areas in § 107.74, which are intended for part 61 certificate holders who satisfy the flight review requirements specified in § 61.56. NPRM, Operation of Small Unmanned Aircraft Systems Over People, 84 FR 3856 (Feb. 13, 2019).

5. Part 125 Flight Crewmember Requirements (§§ 125.285, 125.287, 125.289, 125.291, 125.293)

Part 125 certificated operators conduct non-common carriage operations. Part 125 operators are not permitted to hold out to the public either directly or indirectly but can operate incidental to their business and have up to three long-term contracts for commercial operations. These contracts are normally for the carriage of cargo, sports teams, and orchestras. Section 125.3 establishes deviation authority for part 125. This allows operators to deviate from specified sections of part 125, under certain circumstances.⁵² The FAA issues a Letter of Deviation Authority (LODA) for various kinds of operations to include airplane ferry, sales demonstrations, or training.⁵³ These LODA-holders conduct operations under part 91 and may hold an operating certificate and have operations specifications (OpSpecs).⁵⁴ The FAA also issues a LODA to an operator that conducts only non-commercial operations (i.e., private use only)—specifically an A125 LODA. Holders of an A125 LODA do not hold an operating certificate or have OpSpecs. Instead, they are issued a letter of authorization (LOA) because the flightcrew members operating under an A125 LODA must comply with the recency, recurrent testing, and proficiency checking requirements of part 125.

⁵² Advisory Circular 125-1A further describes the applicability of part 125 to certain large airplane operations in other than common carriage and the exceptions to the applicability.

⁵³ These are A510, A511, or A512 LODA holders, respectively.

⁵⁴ Pilots of these LODA-holders comply with the recency, training, and checking requirements of part 61.

Section 125.287 requires a pilot of a part 125 operation to have passed a written or oral test given by the Administrator or a check airman every twelve calendar months and pass a competency check in the type of airplane flown in part 125 operations every twelve calendar months.⁵⁵ Section 125.289 requires a flight attendant to complete recurrent testing every twelve calendar months. Section 125.293(a) provides for a grace month for crewmembers to complete testing or checking.⁵⁶ Section 125.291(a) requires that since the beginning of the sixth calendar month before service, the PIC of an airplane in a part 125 operation under IFR must have passed an instrument proficiency check and the Administrator or an authorized check airman has so certified in a letter of competency.⁵⁷ Finally, § 125.285(a) requires that pilot flight crewmembers complete three takeoffs and landings within the preceding 90 days in the type airplane in which that person is to serve.

⁵⁵ This section also requires the certificate holder to use a pilot who has passed the written or oral test and competency check within the preceding 12 calendar months.

⁵⁶ If a crewmember who is required to take a test or check under part 125, if he or she completes the test or check in the calendar month before or after the calendar month in which it is required, that crewmember is considered to have completed the test or check in the calendar month in which it is required.

⁵⁷ The certificate holder is also required to use a PIC in an airplane of a part 125 IFR operation who has completed the instrument proficiency check within the preceding six calendar months.

Part 125 certificate holders and those that hold an A125 LODA operate airplanes with 20 seats or more, or a payload capacity of 6,000 pounds or more. These large airplanes are typically used to move personnel and materials to where they are needed and are an essential part of the U.S. supply chain. Part 125 certificate holders and A125 LODA holders are part of the U.S. economic infrastructure.

The FAA finds, under the extraordinary circumstances of the COVID-19 outbreak, that allowing two additional grace months for completing the recurrent testing, checking, and training requirements does not present a risk to aviation safety that cannot be mitigated. In addition, the FAA is granting an additional sixty days for completing the three required takeoffs and landings. The requirements of this SFAR ensure that certificate holders and A125 LODA holders demonstrate a plan to mitigate any potential risk introduced by extending flight crewmember qualifications.⁵⁸ The relief applies to requirements for currently qualified flight crewmembers only, whose base month is March, April, May, or June 2020. It does not apply to requirements for the training and qualification of new personnel. In order to utilize the relief provided by this SFAR, the certificate holder or A125 LODA holder must provide an acceptable plan to its assigned principal operations inspector for acceptance that contains the following information—

⁵⁸ Pilots of other LODA-holders would comply with the applicable relief to part 61 training, recency, testing, and checking requirements.

(i) A safety analysis and corresponding risk mitigations to be implemented by the certificate holder or A125 LODA holder; and

(ii) The method the certificate holder or A125 LODA holder will use to ensure that each crewmember remains adequately tested and currently proficient for each aircraft, duty position, and type of operation in which the person serves.

6. Robinson R-22/R-44 Special Training and Experience Requirements (SFAR 73)

SFAR 73 established special training and experience requirements for pilots operating the Robinson model R-22 or R-44 helicopters to maintain safe operation of these helicopters. The FAA determined that SFAR 73 was needed to increase awareness of, and training for, potential hazards of particular flight operations in the Robinson helicopters.

To act as PIC of a Robinson R-22 or R-44 helicopter, SFAR 73 requires the person to complete the flight review required under § 61.56 in an R-22 or R-44 helicopter, as appropriate to the PIC privileges sought, if the person has at least 200 flight hours in helicopters of which at least 50 flight hours are in the applicable Robinson model helicopter for which the person has PIC privileges.⁵⁹ Otherwise, it requires the person to comply with the endorsement requirements of SFAR 73.⁶⁰

⁵⁹ An R-44 PIC may credit up to 25 hours of R-22 PIC time towards the 50 hours of PIC time required in the R-44.

⁶⁰ See 14 CFR part 61, SFAR 73, section 2, paragraph (b)(1) or (2) Aeronautical Experience.

Under the extraordinary circumstances of the COVID-19 outbreak, the FAA has determined that the PIC of an R-22 or R-44 is compliant with SFAR 73 if the person meets the recency requirements of § 61.56 established in this SFAR in an R-22 or R-44, or both, as appropriate. This relief is limited to Robinson pilots that have at least 200 hours in helicopters of which at least 50 hours are in the applicable Robinson model helicopter for which the person has PIC privileges. Low-time Robinson pilots that are required to complete a flight review every twelve calendar months in accordance with SFAR 73 must continue to comply with that SFAR.

For the relief in this SFAR, the flight review must include SFAR 73 awareness training subjects in paragraph 2(a)(3) and the flight training subjects in paragraph 2(b). R-22 or R-44 pilots whose flight review is due in March through June 2020 may extend an additional three calendar months, provided the pilots have at least 10 hours of PIC time in an R-22 or R-44 as applicable, in the preceding twelve calendar months, of which three hours must be in the three calendar months preceding the month in which the flight review is due. R-22 and R-44 pilots must also complete a minimum of three hours of self-study since January 1, 2020 and prior to the flight being conducted on the following subjects—

1. SFAR 73 awareness training in 2(a)(3)(i)-(v);

2. 14 CFR part 91 regulations;

3. Robinson R-22 or R-44 Maneuvers Guide applicable to the model (R-22 or R-44) for which the airman has PIC privileges; or both maneuver guides, if the airman has PIC privileges in both Robinson model helicopters; ⁶¹

⁶¹ The Robinson Maneuver Guides contain the flight training subjects identified in SFAR 73 paragraph 2(b).

4. Complete Course ALC-103: Helicopter Weight and Balance, Performance at www.faasafety.gov; and

5. Complete ALC-104: Helicopter—General and Flight Aerodynamics at www.faasafety.gov.

The courses identified in 4 and 5 may be used to satisfy the WINGS credit as required by the relief to § 61.56 of this SFAR.⁶²

⁶² Each course is worth 0.5 credits. R-22 and R-44 pilots will need to select additional courses for WINGS credit to fully meet the requirements of § 61.56 in this SFAR.

B. Relief From Certain Duration and Renewal Requirements

Maintaining the continuity of operations through the relief in section A of this document is important to ensure the stability of essential functions of the U.S. transportation system. The FAA also finds that it is appropriate to grant relief for certain duration and renewal requirements because the COVID-19 outbreak has made compliance difficult or in some instances impossible. Without this short-term relief, certificate holders will have to choose between attempting to comply with FAA requirements or abiding by public health measures.

The relief discussed more fully in the following sections responds to initial disruptions that have prevented certificate holders from seeking timely renewals of certificates or from completing certain testing activity before expiration dates have passed. Because these disruptions may continue for a brief time as routine activities begin to resume, the FAA is providing relief for periods of time deemed necessary to alleviate the burden. The FAA has determined, under the extraordinary circumstances of the COVID-19 outbreak, that this relief will not adversely affect safety because it is narrowly focused on a small segment of the regulated community, it will be in effect for a short duration, and the regulations will provide safeguards to ensure an appropriate level of safety is maintained.

1. Part 61

The FAA is granting temporary regulatory relief from the validity dates for medical certificates. This relief is further described in B.1.a and B.3.a. The FAA also recognizes that the inability to complete a practical test at this time is outside the applicant's control due to the cessation of practical tests. As a result, the FAA is providing relief to extend the knowledge test validity period as described in B.1.b. Finally, because reduced staffing at FAA Flight Standards offices, as well as stay-at-home advisories, prevented some flight instructors from renewing their certificate based on activity, FAA is providing relief to instructors whose certificate expired as described in B.1.c.

a. Medical Certificates: Requirement and Duration (§§ 61.2, 61.23)

Section 61.2(a)(5) states that no person may exercise privileges of a medical certificate issued under 14 CFR part 67 if the medical certificate is expired according to the duration standards set forth in § 61.23(d). Section 61.23(d) states that the duration of a medical certificate depends on the age of the person on the date of the medical examination, the duty position in which the person is serving, the type of operation the person is conducting, and the class of certificate.

On April 1, 2020, the FAA published an Enforcement Policy for Expired Airman Medical Certificates in the Federal Register (85 FR 18110) notifying the public that the Agency would not take legal enforcement action against any person serving as a required pilot flight crewmember or flight engineer based on noncompliance with medical certificate duration standards. The policy is limited to specified certificate expiration dates and to operations within U.S. airspace. The FAA also granted two exemptions relating to the duration of medical certificates, No. 18516 (Regulatory Docket No. FAA-2020-0318) and No. 18515 (Regulatory Docket No. FAA-2020-0317) limited to operations outside U.S. airspace conducted by certain 14 CFR part 119 certificate holders. The FAA is incorporating the relief granted in those exemptions into this SFAR and expanding it to all pilots to encompass all operations subject to §§ 61.2, 61.23, and 63.3.⁶³

⁶³ Because the medical certification requirement for flight engineers falls under part 63, rather than part 61, the SFAR relief pertaining to § 63.3 is addressed in Section B.3 of this preamble.

Under the extraordinary circumstances of the COVID-19 outbreak, the FAA has determined that it is not appropriate at this time to maintain the requirement of an FAA medical examination, which is a nonemergency medical service, in order for pilots with expiring medical certificates to obtain new medical certificates. Aviation medical examinations increase the risk of transmission of the virus through personal contact between the physician and the applicant for a medical certificate. Even as routine activity begins to resume, the disruption to medical examinations may continue.

The FAA notes that the provisions of this SFAR do not extend to the requirements of § 61.53 regarding prohibition on operations during medical deficiency. These prohibitions remain critical for all pilots to observe, especially given the policy of emergency accommodation announced here and the health threat of COVID-19. Accordingly, the FAA emphasizes that under § 61.53, no person who holds a medical certificate issued under 14 CFR part 67 may act as a required pilot flight crewmember while that person:

(1) Knows or has reason to know of any medical condition that would make the person unable to meet the requirements for the medical certificate necessary for the pilot operation; or

(2) is taking medication or receiving other treatment for a medical condition that results in the person being unable to meet the requirements for the medical certificate necessary for the pilot operation.

The FAA has determined that pilots may operate beyond the validity period of their medical certificate for a limited time without creating a risk to aviation safety that is unacceptable under the extraordinary circumstances surrounding the COVID-19 outbreak. For the reasons cited, for medical certificates that expire from March 31, 2020 through May 31, 2020, the FAA is extending the validity period of these medical certificates to June 30, 2020.

b. Prerequisites for Practical Tests (§ 61.39)

Section 61.39 establishes the eligibility requirements for an applicant seeking to take a practical test for a certificate or rating issued under part 61. Among these requirements, an applicant must have passed the required FAA knowledge test within a specified period of time. With the exception of the multiengine airplane airline transport pilot (ATP) certificate, FAA knowledge tests are valid for 24 calendar months.⁶⁴ The multiengine airplane ATP knowledge test is valid for sixty calendar months.⁶⁵

⁶⁴ Section 61.39(a)(1)(i) requires the applicant to have passed the required knowledge test within the 24-calendar month period preceding the month the applicant completes the practical test, if a knowledge test is required.

⁶⁵ Section 61.39(a)(1)(ii) requires the applicant to pass the required knowledge test within the sixty-calendar month period preceding the month the applicant completes the practical test for those applicants who complete the ATP certification training program in § 61.156 and pass the knowledge test for an ATP certificate with a multiengine class rating after July 31, 2014.

As a result of the COVID-19 outbreak, an applicant may not have been able to complete a practical test, as planned, prior to the expiration of his or her knowledge test. The majority of practical tests, if not all, have been temporarily suspended or cancelled. Most examiners are unwilling to provide testing until State and Federal public health measures have been lifted. Knowledge testing centers delivered more than 60,000 knowledge tests between March and June 2018.⁶⁶ Although the FAA does not know the number of applicants who have subsequently completed the practical test, the number of test results set to expire during this time period could be significant.

⁶⁶ FAA Regulatory Support Division provided knowledge test data from their Airman Testing Standards database.

If an applicant's knowledge test expires before he or she can complete the practical test, that applicant is required to pass another knowledge test prior to completing the practical test. It costs a person $96-160 per test,⁶⁷ depending upon the testing location, to take an FAA knowledge test. Therefore, requiring a person whose knowledge test result expired during the COVID-19 outbreak to take another knowledge test would result in an additional economic burden on the applicant.

⁶⁷ FAA Regulatory Support Division provided knowledge test cost information on April 14, 2020.

Where avoidable, it is not in the public interest to induce persons to attempt to complete a practical test, contrary to social distancing guidelines, solely to avoid an economic burden resulting from expiration of their knowledge test.

The FAA has determined, under the extraordinary circumstances of the COVID-19 outbreak, that it is necessary to provide reasonable regulatory relief to the specific class of individuals who have knowledge tests expiring between March 2020 and June 2020. To ensure these individuals are not penalized by having to take another knowledge test, the FAA is extending the validity of knowledge tests by a duration of three calendar months. Therefore, this SFAR will allow an individual who has a knowledge test expiring between March 2020 and June 2020 to present the expired knowledge test to show eligibility under § 61.39(a)(1) to take a practical test for a certificate or rating issued under part 61 for an additional three calendar months.⁶⁸

⁶⁸ Except for a multiengine ATP knowledge test, a knowledge test taken for a pilot certificate or rating in May 2018 would expire in May 2020. With the relief in this SFAR, the passing knowledge test results are valid until August 2020.

In addition to passing a knowledge test, the eligibility requirements for taking a practical test require an applicant to satisfactorily accomplish the required training and obtain the aeronautical experience required for the certificate or rating sought.⁶⁹ The regulations also require the applicant to have received flight training from an authorized instructor in preparation for the practical test within the two months preceding the month of the test.⁷⁰ The authorized instructor must endorse the applicant's logbook or training record certifying that the applicant has received and logged this training and is prepared for the required practical test.⁷¹ While this SFAR will allow certain individuals to use an expired knowledge test, the other requirements in part 61 will ensure the individual is prepared for the practical test, and the evaluator administering the practical test will have the opportunity to determine whether the person is qualified to hold the certificate.⁷² Under the extraordinary circumstances of the COVID-19 outbreak, and because the relief applies to a specific group of individuals and is limited in duration, the FAA has determined that these regulatory requirements will provide sufficient assurance that there will be no adverse impact to safety.

⁶⁹ 14 CFR 61.39(a)(3).

⁷⁰ 14 CFR 61.39(a)(6)(i), 61.99, 61.109, 61.129, 61.313.

⁷¹ 14 CFR 61.39(a)(6).

⁷² The regulations require the applicant to pass the practical test on the areas of operation required for the certificate or rating sought. 14 CFR 61.96(b)(7), 61.103(h), 61.123(g), 61.153(h), 61.165(e)(4) and (f)(5), 61.183(h), 61.307(b), 61.405(b)(2).

c. Renewal Requirements for Flight Instructor Certification (§ 61.197)

Unlike other airman certificates, flight instructor certificates have expiration dates. Section 61.197 establishes renewal requirements for flight instructor certificates. In accordance with paragraph (a), a person who holds a flight instructor certificate that has not expired may renew that flight instructor certificate through various methods. Generally, a flight instructor must renew his or her certificate every 24 calendar months.⁷³

⁷³ Section 61.197(a)(1) permits a flight instructor to renew automatically by passing a practical test for a current instructor rating or an added instructor rating.

Section 61.197(a)(2) offers four methods for renewal that require submitting a completed and signed application with the FAA. The application can be submitted in the renewal month or up to three calendar months preceding the renewal month. Section 61.197(a)(2) requires the flight instructor to satisfactorily complete one of the following renewal requirements:

• Train and endorse at least five students for a practical test for a certificate or rating during the preceding 24 calendar months with at least 80 percent of those students passing on the first attempt;

• serve, within the preceding 24 calendar months, as a company check pilot, chief flight instructor, company check airman, or flight instructor in a part 121 or 135 operation, or in a position involving the regular evaluation of pilots;

• successfully complete an approved flight instructor refresher course (FIRC), either in-person or online, within the preceding three calendar months preceding the expiration date of the certificate; or

• pass, within the preceding 24 calendar months, an official U.S. Armed Forces military instructor pilot or pilot examiner proficiency check in an aircraft for which the military instructor already holds a rating or in an aircraft for an additional rating.

A flight instructor certificate will expire if the flight instructor fails to comply with the renewal requirements set forth in § 61.197. The holder of an expired flight instructor certificate who has not complied with the renewal requirements may reinstate that flight instructor certificate and ratings only by passing a practical test for one of the ratings held on the flight instructor certificate or for an additional rating.⁷⁴

⁷⁴ 14 CFR 61.199.

The COVID-19 outbreak has disrupted certificated flight instructors' plans for renewing their certificates using the methods prescribed in § 61.197(a)(2). For example, a flight instructor may have enrolled in an in-person FIRC that was subsequently cancelled due to stay-at-home advisories. Additionally, flight instructors who have satisfactorily completed one of the renewal requirements in § 61.197(a)(2)(i), (ii), or (iv) may be unable to travel to an FAA Flight Standards office to present records demonstrating eligibility for renewal.

During the COVID-19 outbreak, the FAA recommends that flight instructors take advantage of the option to renew their flight instructor certificates by satisfactorily completing an online FIRC in accordance with § 61.197(a)(2)(iii).⁷⁵ The FAA recognizes, however, that this is not an equitable option for all flight instructors as certain flight instructors may have already satisfied a renewal requirement other than a FIRC. For example, a flight instructor may have already trained and endorsed at least five students in the preceding 24 calendar months with an 80 percent pass rate.

⁷⁵ There are seven existing FIRCs that are taught using an online platform that require no face-to-face contact. Those online FIRC providers also offer Airman Certification Representative (ACR) services. These ACRs are authorized to renew a flight instructor certificate after successful completion of their FIRC.

The FAA has therefore determined, under the extraordinary circumstances of the COVID-19 outbreak, that flight instructors who satisfy a renewal requirement listed in § 61.197(a)(2)(i), (ii), or (iv) should not be required to also complete an online FIRC, which is an additional economic burden, simply because the flight instructor is unable to process his or her renewal at an FAA Flight Standards office. Accordingly, to accommodate flight instructors who have flight instructor certificates expiring between March 31, 2020 and May 31, 2020, the FAA is extending the validity of these flight instructor certificates until June 30, 2020. Therefore, under this SFAR, a flight instructor who has a certificate expiring in March, April, May, or June 2020 may submit a completed and signed application with the FAA and show satisfactory completion of the one of the renewal requirements listed in § 61.197(a)(2)(i) through (iv) until June 30, 2020. A person who renews his or her flight instructor certificate during this grace period will retain the original expiration month on the flight instructor certificate. For example, if a person's flight instructor certificate expires in March 31, 2020, and that person renews his or her flight instructor certificate in accordance with this SFAR in June 2020, that person's renewed flight instructor certificate will still expire on March 31, 2022.

After June 30, 2020, a flight instructor who holds an expired flight instructor certificate must reinstate that certificate in accordance with § 61.199.

2. Relief for U.S. Military and Civilian Personnel Who Are Assigned Outside the United States in Support of U.S. Armed Forces Operations (SFAR 100-2)

SFAR 100-2 allows the FAA Flight Standards offices to accept expired flight instructor certificates and inspection authorizations for renewals and expired airman written test reports for certain practical tests from U.S. military and civilian personnel (U.S. personnel) who are assigned outside the United States in support of U.S. Armed Forces operations. SFAR 100-2 is necessary to avoid penalizing U.S. personnel who are unable to meet the regulatory time limits of their flight instructor certificate, inspection authorization, or airman written test report because they are serving outside the United States in support of U.S. Armed Forces operations when they expire. The effect of SFAR 100-2 is to give U.S. personnel who are assigned outside the United States in support of U.S. Armed Forces operations extra time to meet certain eligibility requirements in the current rules.

Due to social distancing guidelines and stay-at-home advisories, persons affected by this SFAR may not be able to comply with paragraph 2.(c) of SFAR 100-2, which states the person must comply with § 61.197 or § 65.93, as appropriate, or complete the appropriate practical test within six calendar months after returning to the United States. Therefore, under the extraordinary circumstances of the COVID-19 outbreak, the FAA is extending the relief granted by SFAR 100-2 by an additional three calendar months for eligible persons who returned to the U.S. from deployment in October 2019 through March 2020. This relief will enable those persons to complete the requirements of paragraph 2.(c) within nine calendar months after returning to the United States.⁷⁶ If a person returns from deployment after March 2020, that person must comply with SFAR-100-2.

⁷⁶ A person who otherwise meets the eligibility requirements in SFAR 100-2 who returned from deployment in November 2019 will now have until August 2020 to complete the desired certificate requirements instead of completing them in May 2020.

3. Part 63

As previously described, the FAA has determined to grant temporary relief from the expiration of medical certificates to provide additional time for airmen to accomplish medical examinations and obtain new medical certificates. Similarly, medical relief for flight engineers is necessary as described in B.3.a. Extending knowledge test passing results for flight engineers is also necessary and explained in B.3.b.

a. Certificates and Ratings Required (§ 63.3)

Section 63.3(b) states that a person may act as a flight engineer of an aircraft only if that person holds a current second-class medical certificate issued to that person under 14 CFR part 67. For the reason previously stated in section B.1.a and subject to the same conditions and limitations, the FAA has determined that flight engineers may operate beyond the validity period of their medical certificate for a limited time without creating a risk to aviation safety that is unacceptable under the extraordinary circumstances surrounding the COVID-19 outbreak. Accordingly, for medical certificates that expire from March 31, 2020 through May 31, 2020, the FAA is extending the validity period of these medical certificates to June 30, 2020.

The FAA notes that the provisions of this SFAR do not extend to the requirements of § 63.19 regarding prohibition on operations during physical deficiency. These prohibitions remain critical for all flight engineers to observe, especially given the policy of emergency accommodation announced here and the health threat of COVID-19. Accordingly, the FAA emphasizes that under § 63.19, no person who holds a medical certificate issued under 14 CFR part 67 may serve as a flight engineer during a period of known physical deficiency, or increase in physical deficiency, that would make him or her unable to meet the physical requirements for his or her current medical certificate.

b. Flight Engineer Knowledge Requirements (§ 63.35)

Section 63.35 establishes the knowledge requirements for a person seeking a flight engineer certificate. Paragraph (d) states the applicant for a flight engineer certificate or rating must have passed the written tests required by paragraphs (a) and (b) since the beginning of the 24th calendar month before the month in which the flight is taken.⁷⁷

⁷⁷ Exceptions to the 24 calendar month limitation are prescribed in paragraphs (d)(1) for applicants employed as a flight crewmember or mechanic by an air carrier; or (d)(2) for applicants that participated in a military flight engineer or maintenance program.

For the reasons discussed in section B.1.b of this preamble and subject to the same condition and limitations, the FAA is also providing relief to persons seeking a flight engineer certificate under part 63 who have written tests expiring between March 2020 and June 2020. Consistent with the relief provided to pilot applicants under part 61, the FAA is extending the validity of written tests under part 63 for a duration of three calendar months. The FAA finds, under the extraordinary circumstances of the COVID-19 outbreak, that this relief will not adversely affect safety because it is narrowly focused on a small segment of the regulated community, it will be in effect for a short period of time, and the regulations will provide adequate safeguards to ensure an appropriate level of safety is maintained.

4. Part 65

As described for pilots and flight engineers, extending knowledge test and written test results for aircraft dispatchers and mechanics, respectively, is also warranted and further described in B.4.a. and B.4.b. The ability for some mechanics to renew their inspector authorization (IA) has also been made more difficult as a result of the COVID-19 outbreak; therefore, the FAA is extending relief to eligible persons as described in B.4.c. Finally, the ability for former military parachute riggers to apply for a senior parachute rigger certificate is temporarily difficult, resulting in some limited relief as described in B.4.d.

The FAA finds, under the extraordinary circumstances of the COVID-19 outbreak, that the relief provided to part 65 airmen will not adversely affect safety because it is narrowly focused on a small segment of the regulated community, it will be in effect for a short period of time, and the regulations will provide adequate safeguards to ensure an appropriate level of safety is maintained.

a. Dispatcher Knowledge Requirements (§ 65.55)

Section 65.55 establishes the knowledge requirements for a person seeking an aircraft dispatcher certificate. Paragraph (b) requires the applicant for an aircraft dispatcher certificate to present passing knowledge test results within the preceding 24 calendar months.

For the reasons discussed in section B.1.b and subject to the same conditions and limitations, the FAA, under the extraordinary circumstances of the COVID-19 outbreak, is also providing relief to persons seeking an aircraft dispatcher certificate under part 65 who have knowledge tests expiring between March 2020 and June 2020. Therefore, consistent with the relief provided to pilot applicants under part 61 and flight engineer applicants under part 63, the FAA is extending the validity of knowledge tests under § 65.55 for a duration of three calendar months. Accordingly, an individual who has a knowledge test expiring between March 2020 and June 2020 may present the expired knowledge test to show eligibility under § 65.55 to take a practical test for an aircraft dispatcher certificate for a period of three calendar months.

b. Eligibility Requirements: General (§ 65.71)

Section 65.71 establishes the eligibility requirements for a mechanic certificate and associated ratings. Paragraph (a)(3) requires an applicant to have passed all of the prescribed tests within a period of 24 months from the initiation of testing. Testing for a FAA mechanic certificate includes three tests, which are the written, oral, and practical.⁷⁸ Section 65.75 establishes the knowledge requirements, including the requirement to pass a written test. Section 65.79 contains the skill requirements, including the requirement to pass an oral and practical test. Additionally, § 65.71(b) requires a certificated mechanic who applies for an additional rating to meet the experience requirements of § 65.77 and, within a period of 24 months, pass the written test required by § 65.75 and the oral and practical tests required by § 65.79 for the additional rating sought.

⁷⁸ Under part 65, subpart D, the FAA may issue an airframe or powerplant rating. 14 CFR 65.73.

For the reasons discussed in section B.1.b of this preamble, the FAA, under the extraordinary circumstances of the COVID-19 outbreak, is also providing relief to persons seeking a mechanic certificate or rating issued under part 65 who have testing periods expiring between March 2020 and June 2020. Therefore, consistent with the relief provided under parts 61 and 63, the FAA is extending the validity of the testing period under § 65.71 for a duration of three months. Accordingly, an individual who has a testing period expiring in March, April, May, or June 2020 may show eligibility under § 65.71 to take a practical test for a mechanic certificate or rating provided the testing period does not exceed 27 months.⁷⁹

⁷⁹ If a testing period was to expire on April 30, 2020, this SFAR extends the testing period to July 31, 2020.

c. Inspection Authorization: Renewal (§ 65.93)

There are more than 30,000 FAA-certificated mechanics ⁸⁰ that hold inspection authorizations (IA), which enable them to perform vital aircraft maintenance services to the general aviation community. With the exception of any aircraft maintained in accordance with a continuous airworthiness program under part 121, mechanics with IA can inspect and approve for return to service any aircraft or related part or appliance after a major repair or major alteration to it if the work was done in accordance with technical data approved by the FAA.⁸¹ The COVID-19 outbreak has posed a challenge for some of these mechanics to meet their renewal requirements under § 65.93.

⁸⁰ Information provided by the FAA Aircraft Maintenance Division on April 10, 2020.

⁸¹ See 14 CFR 65.95(a) (containing inspection authorization privileges and limitations) and 43.7(b) (specifying persons authorized to approve aircraft, airframes, aircraft engines, propellers, appliances, or component parts for return to service after maintenance, preventive maintenance, rebuilding, or alteration).

Each inspection authorization expires on March 31st of each odd-numbered year.⁸² However, a person holding an IA may only exercise the privileges of an IA if that person meets one of the annual activity requirements for each year of the two-year IA renewal period under § 65.93. The annual activity requirements prescribed in § 65.93(a) are: (1) Perform at least one annual inspection for each ninety days that the applicant held the current authority; (2) perform at least two major repairs or major alterations for each ninety days the applicant held the current authority; (3) perform or supervise and approve at least one progressive inspection; (4) complete an IA refresher course; or (5) pass an oral test by the FAA.

⁸² The next IA renewal is in March 2021. An IA must provide evidence of activity for the even year (April 2019-March 2020 and the odd year (April 2020-March 2021) in order to renew in March 2021.

As a result of the COVID-19 outbreak, general aviation flight hours have declined dramatically, causing a reduction in aircraft maintenance. In some localities, many aircraft maintenance facilities are closed. The closure of these facilities could make the IA renewal option of conducting major repair and alterations, annual inspections, and progressive inspections extremely difficult to accomplish. In addition, a majority of FAA-sponsored IA renewal seminars, which are typically held in-person at local FAA offices, were cancelled in March 2020. Finally, in person staffing at Flight Standards offices has been reduced with a majority of the employees teleworking, which has made the oral testing option more challenging. The only remaining option was to complete an IA refresher course online. Due to the confusion and uncertainty surrounding the COVID-19 outbreak, many mechanics may have been caught off-guard and without a plan to meet their annual requirement. If an IA holder was unable to meet the annual activity requirement for the 2019/2020 calendar year, he or she would not be eligible to renew in March of 2021, and the only option to regain the authorization would be by retaking and passing the FAA written test and an oral test.

The FAA has decided, under the extraordinary circumstances of the COVID-19 outbreak, to provide relief for IA holders that were unable to meet the first year (even-numbered year) renewal requirements by March 2020 as prescribed in § 65.93. The extension provides an IA holder an additional three months (April-June 2020) to complete one of the listed activities in accordance with § 65.93(a)(1) through (5) to meet the first year renewal requirements. Consistent with the prohibition in § 65.93(c), an IA holder who has not met one of the five activities in § 65.93(a)(1) through (5) by June 30, 2020, may not exercise IA privileges after June 30, 2020. A person who has completed one of the listed activities in accordance with § 65.93(a)(1) through (5) by June 30, 2020, will be considered to have completed it by March 31, 2020, (first year of 2-year IA period) for the purposes of determining compliance with the renewal requirements of § 65.93(a).

The FAA emphasizes, however, that an activity performed between April and June 2020 to satisfy the first year renewal requirements under this SFAR cannot also be used to meet the year two renewal requirements. An IA holder is still required to complete one of the five activities specified in § 65.93(a)(1) through (5) by March 31, 2021 to satisfy the renewal requirements for the second year of the two-year period. The requirements in § 65.93(a)(1) and (2), which require the activity to be performed “each 90 days,” do not mean the requirement must be completed each quarter. The requirement only sets the number of activities that an applicant must perform during the renewal period (since an applicant may not have held their rating for an entire year). Accordingly, these activities could be performed at any point during the renewal period.⁸³ For this reason, the FAA has determined it is unnecessary to provide relief to individuals who are unable to meet these activities during the COVID-19 outbreak in the second-year renewal period because they are still able to comply with the requirements thereafter.

⁸³ Legal Interpretation to Mr. Rhein (Mar. 17, 1995) at: https://www.faa.gov/about/office_org/headquarters_offices/agc/practice_areas/regulations/interpretations/?year=all&q=Rhein&bSubmit=Search.

d. Military Riggers or Former Military Riggers: Special Certification Rule (§ 65.117)

Parachute riggers provide a vital service to the parachuting industry to include firefighting smoke jumpers and other operations. Former military parachute riggers are essential to these operations. A special certification has been granted to military or former military parachute rigger applicants for a senior parachute rigger certificate under § 65.117. A military applicant is required to pass a written test, present evidence of current or past military experience within the previous twelve months where he or she has served as a parachute rigger in the military,⁸⁴ and have the experience packing parachutes as prescribed in § 65.115(a).⁸⁵

⁸⁴ Section 65.117(a) states the military applicant must be a member or civilian employee of an Armed Force of the United States, or is a civilian employee of a regular armed force of a foreign country, or has, within the 12 months before he or she applies, been honorably discharged or released; is serving, or has served within the 12 months before he or she applies, as a parachute rigger for such an Armed Force.

⁸⁵ Section 65.115(a) requires the applicant to present evidence that he has packed at least 20 parachutes of each type for which he seeks a rating, in accordance with the manufacturer's instructions and under the supervision of a certificated parachute rigger holding a rating for that type or a person holding an appropriate military rating.

Reduced staffing at Flight Standards offices, public health guidelines for social distancing, and travel restrictions in some localities significantly diminish a former military parachute rigger's ability to apply for a senior parachute rigger certificate within the prescribed twelve-month requirement under § 65.117. As a result, under the extraordinary circumstances of the COVID-19 outbreak, the FAA is extending the period for former military parachute riggers to apply for a senior parachute rigger certificate by three months. Eligible persons are those former members or former civilian employees of an Armed Force of the United States or former civilian employees of a regular armed force of a foreign country who were honorably discharged or released beginning in March 2019 through June 2019.⁸⁶ The extension provides these applicants a total time of fifteen months to submit their application to the responsible Flight Standards office. The applicant must meet all applicable requirements prior to application within the extended deadline.

⁸⁶ If a military parachute rigger was released in May 2019, that person will now have until August 2020 to apply for a senior parachute rigger certificate.

5. Part 141

a. Requirements for a Pilot School Certificate (§ 141.5)

An applicant for a pilot school certificate must meet the requirements of § 141.5 within the preceding 24 calendar months before the date that application is made for that pilot school certificate. As part of the provisional pilot school approval process, the FAA is required to inspect training equipment, inspect training facilities, and approve training course outlines and their associated syllabi, and additionally all chief instructors and assistant chief instructors are required to have a proficiency test performed by an FAA Aviation Safety Inspector to ensure § 141.5(c) is met. Paragraphs (d) and (e) require the school to have an 80 percent pass rate of its applicants for practical tests and ratings, and the school must have graduated at least ten different people from the school's approved training courses. If a provisional pilot school does not meet the requirements of § 141.5(d) and (e), its provisional status cannot be renewed and the school must cease operations.⁸⁷ Many areas throughout the U.S. are under stay-at-home advisories, which prevent flight training activities, and many colleges and universities with aviation programs have cancelled classes for the remainder of the academic year. The inability for pilot schools and provisional pilot schools to graduate students from their programs jeopardizes their ability within the 24 calendar month timeframe to meet the 80 percent pass rate of their applicants for knowledge tests, practical tests, and end-of-course tests for special curriculum courses and courses approved under appendix K of part 141, and graduate at least ten different people from the school's approved training courses. Therefore, under the extraordinary circumstances of the COVID-19 outbreak, the FAA is providing provisional pilot schools ⁸⁸ whose 24 calendar-month window expires in April through June 2020, until December 31, 2020, to meet § 141.5(d) and (e), subject to the following conditions for provisional pilot schools taking advantage of this relief:

⁸⁷ Currently there are 32 provisional pilots schools with three provisional pilot schools that are Institutions of Higher Education (IHE), as defined by the Department of Education in 34 Code of Federal Regulation (CFR) 600.4. The IHEs provide semester credit hours of aviation and aviation-related coursework that have been recognized by the Administrator as coursework designed to improve and enhance the knowledge and skills of a person seeking a career as a professional pilot. Currently there are 125 part 141 pilot schools that hold an air agency certificate. Out of these 125 pilot schools, there are 45 associated with IHEs. There are 67 pilot school and provisional pilot school certificates with an expiration date between April and June 2020.

⁸⁸ Pilot school certificate renewals are addressed in B.5.b.

(1) Each part 141 provisional pilot school must notify its responsible Flight Standards office that it is applying for a pilot school certificate in accordance with this SFAR.

(2) In this notification, the part 141 provisional pilot school must submit an acceptable plan that explains the method to meet the requirements of § 141.5(d) and (e), which includes ensuring each instructor used for ground or flight training is current and proficient and evaluating students to determine if they are assigned to the proper stage of the training course and if additional training is necessary.

b. Renewal of Certificates and Ratings (§ 141.27)

Section 141.27 requires all part 141 schools to renew their pilot school certificates every 24 calendar months. A provisional pilot school, in accordance with paragraph (b), must obtain a pilot school certificate by the end of the 24 months since the date of the issuance of its pilot school certificate. Otherwise, its pilot school certificate expires. Should it expire, the provisional pilot school cannot apply for another provisional pilot school certificate for 180 days. Section 141.27 also requires a pilot school to comply with training ability and quality standards established in § 141.5—that is, the pass rate of its applicants for practical tests and the number of graduates as described in B.5.a.

During the COVID-19 outbreak, many part 141 schools have ceased flight operations for their students. Some schools are utilizing online classroom instruction for the ground content of a course. However, not all part 141 schools may be capable of providing ground instruction online. The FAA has determined, under the extraordinary circumstances of the COVID-19 outbreak, that it is appropriate to allow pilot schools additional time to meet the requirements of § 141.5.

Pilot school certificates with an expiration date of April 2020 ⁸⁹ through June 2020, are extended to December 31, 2020, subject to the following conditions for pilot schools taking advantage of this relief:

⁸⁹ Because all part 141 pilot schools that were due to renew in March 2020 were able to do so, relief for March 2020 is not necessary.

(1) Each part 141 pilot school must notify its responsible Flight Standards office that it will renew its pilot school certificate in accordance with this SFAR.

(2) In this notification, the part 141 pilot school must submit an acceptable plan that explains the method to regain currency that includes ensuring each instructor used for ground or flight training is current and proficient and evaluating students to determine if they are assigned to the proper stage of the training course and if additional training is necessary.

C. Other Relief for Special Flight Permits (§ 21.197)

Section 21.197(c) states in part, “. . . a special flight permit with a continuing authorization may be issued for aircraft that may not meet applicable airworthiness requirements, but are capable of safe flight for the purpose of flying aircraft to a base where maintenance or alterations are to be performed . . .”

Due to the COVID-19 outbreak and restrictions on flights, airlines have significantly reduced capacity in the National Airspace System (NAS). As domestic airlines work to find space to park much of their fleets, airport operators are working to find locations to support temporary overflow aircraft. Because extensive overflow parking presents an extraordinarily unusual operational environment and may adversely affect safety, it is helpful during this time for operators to have the ability to ferry aircraft to different points of storage.

Relief for § 21.197(c) is necessary to allow certificate holders or operators, authorized to conduct operations under part 119 or under subpart K of part 91, to ferry aircraft that may not meet all airworthiness requirements, but are capable of safe flight, to a point of storage.

In order to fly an aircraft that may not meet applicable airworthiness requirements but is capable of safe flight to a point of storage, a special flight permit must be issued under § 21.197(a)(1) for each affected aircraft.

The number of aircraft that are and may become affected due to personnel and logistical issues resulting from the COVID-19 outbreak will place a significant burden on certificate holders and operators as well as the responsible FAA Flight Standards offices that oversee them. Further, issuance of individual special flight permits by the FAA in a timely manner may not be feasible.

Under the extraordinary circumstances presented by the COVID-19 outbreak, the FAA will allow a special flight permit with continuing authorization to be issued for the purpose of flying the aircraft to a point of storage through December 31, 2020. By allowing these permits to be issued with continuing authorization through December, a majority of operators will have the opportunity to move the bulk of their aircraft to a point of storage. The FAA expects the volume of aircraft that require movement to storage to return to a manageable level in 2021. Therefore, certificate or management specification holders that have a special flight permit with continuing authorization to conduct a ferry flight program may include the purpose of flying the aircraft to a point of storage in their program. To provide an acceptable level of safety, the certificate holder exercising this privilege must notify the responsible Flight Standards office each time the certificate holder uses it.

IV. Regulatory Notices and Analyses

Changes to Federal regulations must undergo several analyses. First, Executive Orders 12866 and 13563 direct that each Federal agency shall propose or adopt a regulation only upon a reasoned determination that the benefits of the intended regulation justify its costs. Second, the Regulatory Flexibility Act of 1980 (Pub. L. 96-354), as codified in 5 U.S.C. 603 et seq., requires agencies to analyze the economic impact of regulatory changes on small entities. Third, the Trade Agreements Act of 1979 (Pub. L. 96-39), as codified in 19 U.S.C. Chapter 13, prohibits agencies from setting standards that create unnecessary obstacles to the foreign commerce of the United States. In developing U.S. standards, the Trade Agreements Act requires agencies to consider international standards and, where appropriate, that they be the basis of U.S. standards. Fourth, the Unfunded Mandates Reform Act of 1995 (Pub. L. 104-4), as codified in 2 U.S.C. Chapter 25, requires agencies to prepare a written assessment of the costs, benefits, and other effects of proposed or final rules that include a Federal mandate likely to result in the expenditure by State, local, or tribal governments, in the aggregate, or by the private sector, of $100 million or more annually (adjusted for inflation with base year of 1995). The FAA also analyzes this regulation under the Paperwork Reduction Act. This portion of the preamble summarizes the FAA's analysis of the economic impacts of this final rule.

In conducting these analyses, the FAA has determined this rule is not a significant regulatory action, as defined in section 3(f) of Executive Order 12866. As notice and comment under 5 U.S.C. 553 are not required for this final rule, the regulatory flexibility analyses described in 5 U.S.C. 603 and 604 regarding impacts on small entities are not required. This rule will not create unnecessary obstacles to the foreign commerce of the United States. This rule will not impose an unfunded mandate on State, local, or tribal governments, or on the private sector, by exceeding the threshold identified previously. In order to take advantage of the relief from this SFAR, this rule will result in a one-time collection of information for affected operators and pilot schools to submit plans to mitigate safety risks and ensure proficiencies.

A. Regulatory Evaluation

i. Safety and Regulatory Relief Benefits

The provisions in this final rule provide temporary relief to persons who are unable to meet certain requirements during the COVID-19 outbreak and prevents persons from encountering situations that would unnecessarily increase the risk of transmission of the virus through personal contact. Without this final rule, certain pilots who perform critical operations would not be able to continue flying due to their inability to satisfy certain training, recency, testing and checking requirements, or would attempt to satisfy requirements by means contrary to the national social distancing guidelines to avoid economic burdens resulting from non-compliance with FAA regulations. Providing accommodation for such pilots is especially important, as because of the COVID-19 outbreak, essential operations are likely to face disruption due to a decreased supply of pilots, including pilots who may need to self-quarantine due to exposure to the virus or because they are among the population that the Centers for Disease Control and Prevention (CDC) has identified as high risk. Additionally, each month, a new group of pilots will be unavailable to perform essential operations because they cannot comply with certain training, recency, testing, or checking requirements during the course of the outbreak. To ensure the continuity of essential operations during the COVID-19 outbreak, this SFAR provides relief to certain individuals whose qualifications would otherwise lapse, thereby supporting the availability of qualified pilots to conduct essential operations. This relief allows operators to continue to use pilots and other crewmembers in support of essential operations.⁹⁰

⁹⁰ This rule also allows certain air carriers and operators to fly temporary overflow aircraft, a need resulting from the COVID-19 outbreak, to a point of storage pursuant to a special flight permit with a continuing authorization.

Additionally, this relief applies to some operations conducted by pilots exercising private pilot privileges, provided the pilot has at least 500 hours of total time as a pilot of which 400 hours is as PIC with 50 of the PIC hours accrued in the last twelve calendar months. As previously discussed, the kinds of operations permitted include, but are not limited to, flights to transport essential goods and/or medical supplies to support public health needs. This SFAR also extends to pilots conducting charitable medical flights for a volunteer pilot organization pursuant to an exemption issued under part 11, provided the pilots continue to comply with the conditions and limitations of the exemption.

This rule also provides relief for U.S. military and civilian personnel assigned outside the United States in support of U.S. Armed Forces Operations. It allows the FAA Flight Standards offices to accept expired flight instructor certificates and inspection authorizations for renewals and expired airman written test reports for certain practical tests. This avoids penalizing U.S. personnel who are unable to meet the regulatory time limits of their flight instructor certificates, inspection authorizations, or airman written test reports because they are serving outside the United States in support of U.S. Armed Forces operations when they expire, giving affected U.S. personnel extra time to meet certain eligibility requirements in the current rules.

In addition to pilots, this rule provides temporary relief to other persons such as flight attendant crewmembers, aircraft dispatchers, flight engineers, mechanics, flight instructors, ground instructors, and schools. This relief extends to flight attendant crewmembers, check pilots, and flight instructors under subpart K of part 91, and part 125. Finally, this relief applies to operations conducted under part 107 by a person who holds a remote pilot certificate issued under part 107.

ii. Costs To Utilize Relief

This SFAR will result in small costs for affected operators and pilot schools to notify the FAA and submit plans to mitigate safety risks and ensure proficiencies. In order to utilize the relief provided by this SFAR, an affected certificate holder or A125 LODA holder must provide a plan to its assigned FAA principal operations inspector. The plan is to contain a safety analysis and corresponding risk mitigations and methods to ensure that each crewmember remains adequately tested and currently proficient for each aircraft, duty position, and type of operation in which the person serves. Similarly, part 91 management specifications holders must also conduct a safety analysis and provide appropriate mitigations in a plan to their FAA principal inspector that addresses potential risks introduced by extending crewmember, check pilot, and flight instructor qualifications, training, and checking. The plan must ensure crewmembers remain adequately trained and currently proficient for each aircraft, crewmember position, and type of operation in which the crewmember serves.

In addition, pilot schools or provisional pilot schools taking advantage of this relief will incur small costs to notify their responsible Flight Standards offices that they will renew certificates in accordance with this SFAR and submit a plan that explains the methods to regain currency and to ensure the training of their instructors and students is current and proficient.

The FAA expects these plans to contain existing information maintained by affected operators and pilot schools. The FAA does not expect these plans to be burdensome.

Therefore, the FAA expects the benefits of this action exceed the costs since it provides immediate relief to enable operators to continue to use pilots and other crewmembers in support of essential operations. As a result, this SFAR will reduce disruption to the continuity of essential services in response to the COVID-19 outbreak. This SFAR also provides immediate relief from certain duration and renewal requirements to reduce unnecessary risk of exposure and to assure persons that they will not endure economic burdens due to non-compliance with certain regulations.

B. Regulatory Flexibility Act

The Regulatory Flexibility Act (RFA), in 5 U.S.C. 603, requires an agency to prepare an initial regulatory flexibility analysis describing impacts on small entities whenever an agency is required by 5 U.S.C. 553, or any other law, to publish a general notice of proposed rulemaking for any proposed rule. Similarly, 5 U.S.C. 604 requires an agency to prepare a final regulatory flexibility analysis when an agency issues a final rule under 5 U.S.C. 553, after being required by that section or any other law to publish a general notice of proposed rulemaking. The FAA found good cause to forgo notice and comment and any delay in the effective date for this rule. As notice and comment under 5 U.S.C. 553 are not required in this situation, the regulatory flexibility analyses described in 5 U.S.C. 603 and 604 are not required.

C. International Trade Impact Assessment

The Trade Agreements Act of 1979 (Pub. L. 96-39) prohibits Federal agencies from establishing standards or engaging in related activities that create unnecessary obstacles to the foreign commerce of the United States. Pursuant to this Act, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this final rule and determined that its purpose has a legitimate domestic objective to promote the continuity and safety of U.S. civil aviation from risks of the COVID-19 outbreak while supporting essential services necessary to fight the outbreak. Therefore, the FAA has determined this final rule complies with the Trade Agreements Act of 1979.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $155 million in lieu of $100 million.

This final rule does not contain such a mandate. Therefore, the requirements of Title II of the Act do not apply.

E. Paperwork Reduction Act

The Paperwork Reduction Act of 1995 (44 U.S.C. 3507(d)) requires that the FAA consider the impact of paperwork and other information collection burdens imposed on the public.

As previously discussed, in order to utilize the temporary relief provided by this SFAR, an affected certificate holder or A125 LODA holder must provide a plan to its assigned FAA principal operations inspector. The plan is to contain a safety analysis and corresponding risk mitigations and methods to ensure that each crewmember remains adequately tested and currently proficient for each aircraft, duty position, and type of operation in which the person serves. Part 91 management specifications holders must also conduct a safety analysis and provide appropriate mitigations in an acceptable plan to their FAA principal inspector that addresses potential risks introduced by extending crewmember, check pilot, and flight instructor qualifications, training, and checking. The plan must ensure crewmembers remain adequately trained and currently proficient for each aircraft, crewmember position, and type of operation in which the crewmember serves.

The FAA estimates that of the 69 part 125 certificate holders and A125 LODA holders, all would avail themselves of the relief provided by this SFAR, and therefore would be required to provide mitigation plans to their assigned principal operations inspector. The FAA further estimates that each respondent would spend two hours preparing and submitting its plan, for a total of 138 hours. The FAA believes the additional paperwork burden would be borne by the director of operations. At $51 per hour multiplied by 138 total hours, the FAA estimates the total burden to part 125 certificate holders and A125 LODA holders to be $7,038.⁹¹

⁹¹ The FAA is using the BLS wage rate for commercial pilots of $39.54 per hour (https://www.bls.gov/ooh/transportation-and-material-moving/airline-and-commercial-pilots.htm) ($82,240/2080 hours=$39.54) multiplied by a fringe benefit multiplier of 29.9 percent (https://www.bls.gov/news.release/ecec.nr0.htm) which results in an hourly wage of $51.

In addition, each pilot school or provisional pilot school taking advantage of this relief must notify its responsible Flight Standards office that it will renew its pilot school certificate, or seek a pilot school certificate if currently a provisional pilot school certificate holder, in accordance with this SFAR. Each pilot school or provisional pilot school must submit a plan that includes an explanation of the methods to regain currency and to ensure its instructors are current and proficient and how students will be evaluated to determine if they are assigned to the proper stage of the training course and if additional training is necessary. The FAA estimates that all 10 provisional pilot schools and 57 pilot schools would request this relief, and would therefore be required to submit a plan to their responsible Flight Standards offices. The FAA further estimates that the preparation and submission of these plans would take one hour, for a total of 67 hours. The FAA believes the chief flight instructor will develop and submit the plan. At $27 per hour multiplied by 67 hours, the FAA estimates the total burden to part 141 pilot schools and provisional pilot schools to be $1,809.⁹²

⁹² The FAA uses a flight instructor hourly wage of $20.54 multiplied by a fringe benefit multiplier of 29.9 percent, which results in a wage of approximately $27 per hour. This information is derived from the Bureau of Labor Statistics, Education, Training, and Library Occupations (code 25-0000) in the Nonscheduled Air Transportation Industry (NAICS 481200), and is assumed to be representative of flight instructor and representative occupations. http://www.bls.gov/oes/current/naics4_481200.htm

The combined burden, for both part 125 certificate holders and A125 LODA holders and part 141 pilot schools and provisional pilot schools is $7,038 + $1,809 = $8,847.

The FAA estimates that it would require an Aviation Safety Inspector (ASI) one hour to review and analyze a plan submitted by a part 125 certificate holder or A125 LODA holder. With 69 part 125 certificate holders or A125 LODA holders estimated to submit a plan multiplied by the hourly wage of a GS-13 FAA ASI, the resulting burden to the FAA is estimated to be $6,860 (69 responses × 1 hour × $99.42 = $6,860).⁹³

⁹³ The FAA assumes a mid-grade GS-13 salary, Rest of USA locality. Annual salary is $103,396 (https://www.opm.gov/policy-data-oversight/pay-leave/salaries-wages/salary-tables/pdf/2020/RUS.pdf) divided by 2,080 hours for an hourly rate of $49.70. The FAA uses a fringe benefits and overhead cost, for FAA employees, of 100%, which results in a fully loaded wage of $99.42 per hour. The U.S. Department of Health and Human Services, “Guidelines for Regulatory Impact Analysis” (2016), on page 30, HHS states, “As an interim default, while HHS conducts more research, analysts should assume overhead costs (including benefits) are equal to 100 percent of pretax wages . . .” (https://aspe.hhs.gov/system/files/pdf/242926/HHS_RIAGuidance.pdf).

The FAA estimates that it would require an ASI 30 minutes to review and accept a plan submitted by a part 141 pilot school or provisional pilot school certificate holder and place it in the school's file. With 67 total pilot schools and provisional pilot schools estimated to submit a plan multiplied by the hourly wage of a GS-13 FAA ASI, the resulting burden to the FAA is estimated to be $3,331 (67 responses × 0.5 hours × $99.42 = $3,331).

The combined burden to the FAA is therefore $6,860 + 3,331 = $10,191.

As provided under 5 CFR 1320.13, Emergency Processing, DOT is requesting emergency processing for this temporary collection of information as specified in the Paperwork Reduction Act and its implementing regulations. DOT cannot reasonably comply with normal clearance procedures because the information is necessary to provide temporary relief to persons who have been unable to meet certain requirements during the COVID-19 outbreak. Without this information, certain individuals will not be able to continue exercising privileges in support of essential operations due to their inability to satisfy certain training, recent experience, testing, and checking requirements. Additionally, other individuals may—to the extent possible given closures—attempt to satisfy requirements contrary to the national social distancing guidelines solely to avoid economic burdens resulting from non-compliance with FAA regulations. The use of normal clearance procedures will result in increased economic burden, disruption to critical aviation operations, and increased risk of exposure during this public health emergency. Due to the pressing considerations associated with the COVID-19 outbreak, it is not practicable to afford ninety days of public comment on this collection of information. Therefore, FAA is requesting OMB approval of this temporary collection of information upon the date that this SFAR is placed on public inspection at the Federal Register. Upon OMB approval of its Emergency clearance request, FAA will follow the normal clearance procedures for the information collection associated with this SFAR.

F. International Compatibility

In keeping with U.S. obligations under the Convention on International Civil Aviation, it is FAA policy to conform to International Civil Aviation Organization (ICAO) Standards and Recommended Practices (SARPs) to the maximum extent practicable. On April 3, 2020, ICAO issued a State Letter (AN 11/55-20/50) to address operational measures States are taking to ensure safe operations during the COVID-19 outbreak. ICAO recognized the varying needs of the States to provide relief and encouraged States to be flexible in their approaches for relief while also adhering to their obligations under the Convention on International Civil Aviation. During this period of relief, ICAO is paying particular attention to the SARPs related to certificates and licenses. ICAO has established a process for States to file temporary differences through a COVID-19 Contingency-Related Differences (CCRDs) sub-system, which is accessible through ICAO's Continuous Monitoring Approach (CMA) Online Framework of Electronic Filing of Differences (EFOD) dashboard that States use normally to file differences related to the Annexes. When States are submitting their differences, ICAO is requiring the State also to indicate whether or not it will recognize the differences of other States. FAA has already filed temporary differences with some of the relief it has given through exemptions under 14 CFR part 11 and has indicated it will recognize other States' differences unless the FAA deems safety is being compromised. ICAO tentatively plans to maintain the CCRD sub-system through March 31, 2021.

The FAA has reviewed the corresponding ICAO SARPs and has identified the following differences with these proposed regulations. In Annex 1, section 1.2.4.4.1, a medical assessment can be extended at the FAA's discretion up to 45 days. With this final rule, the FAA is extending the validity period up to three calendar months for pilots with expiring medicals between March 2020 and May 2020. As a result, the FAA will file a temporary difference with ICAO.

In Annex 6, Part 2, Section 3.9.4.2, a PIC is required to have made three takeoffs and landings within the preceding ninety days on the same type of airplane or in a flight simulator prior to serving as a PIC in that airplane. With this final rule, the FAA is extending the look-back period by sixty days for PICs conducting operations under part 91, subpart N, and part 125 operations. As a result, the FAA will file a temporary difference with ICAO.

In Annex 6, Part 2, Section 3.9.4.3, an SIC is required to have made three takeoffs and landings within the preceding ninety days on the same type of airplane or in a flight simulator prior to serving as a SIC in that airplane. With this final rule, the FAA is extending the look-back period by sixty days for SICs conducting operations under part 91, subpart N, and part 125 operations. As a result, the FAA will file a temporary difference with ICAO.

Certificate holders or operators may dispatch or release flights and pilots and crewmembers may operate outside of the United States under this SFAR, unless otherwise prohibited by a foreign country. For international operations where pilots and crewmembers will exercise the relief identified here, they must have access to this SFAR when outside the United States. In accordance with the Convention on International Civil Aviation (Chicago Convention), and its Annexes, pilots and crewmembers must present a copy of this SFAR for inspection upon request by a foreign civil aviation authority.

V. Executive Order Determinations

A. Executive Order 12114, Environmental Effects Abroad of Major Federal Actions

The FAA has analyzed this action under Executive Order 12114, Environmental Effects Abroad of Major Federal Actions (44 FR 1957, January 4, 1979), and DOT Order 5610.1C, Paragraph 16. Executive Order 12114 requires the FAA to be informed of environmental considerations and take those considerations into account when making decisions on major Federal actions that could have environmental impacts anywhere beyond the borders of the United States. The FAA has determined that this action is exempt pursuant to Section 2-5(a)(i) of Executive Order 12114 because it does not have the potential for a significant effect on the environment outside the United States.

In accordance with FAA Order 1050.1F, Environmental Impacts: Policies and Procedures, paragraph 8-6(c), FAA has prepared a memorandum for the record stating the reason(s) for this determination and has placed it in the docket for this rulemaking.

B. Executive Order 13132, Federalism

The FAA has analyzed this final rule under the principles and criteria of Executive Order 13132, Federalism. The agency determined that this action will not have a substantial direct effect on the States, or the relationship between the Federal Government and the States, or on the distribution of power and responsibilities among the various levels of government, and, therefore, does not have federalism implications.

C. Executive Order 13211, Regulations That Significantly Affect Energy Supply, Distribution, or Use

The FAA analyzed this final rule under Executive Order 13211, Actions Concerning Regulations that Significantly Affect Energy Supply, Distribution, or Use (May 18, 2001). The agency has determined that it is not a “significant energy action” under the Executive order and it is not likely to have a significant adverse effect on the supply, distribution, or use of energy.

D. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. As described in Section IV. F., International Compatibility, the FAA is working with ICAO and other foreign CAAs on the kind of relief provided by this SFAR. The FAA has analyzed this action under the policies and agency responsibilities of Executive Order 13609, and has determined that this action would have no effect on international regulatory cooperation. The provisions in this final rule provide temporary relief to persons who are unable to meet certain requirements during the COVID-19 outbreak and prevents persons from encountering situations that would unnecessarily increase the risk of transmission of the virus through personal contact.

F. Executive Order 13771, Reducing Regulation and Controlling Regulatory Costs

This rule is not an E.O. 13771 regulatory action because this rule is not significant under E.O. 12866.

VI. How To Obtain Additional Information

A. Availability of Rulemaking Documents

An electronic copy of a rulemaking document my be obtained by using the internet—

1. Search the Federal eRulemaking Portal (https://www.regulations.gov/);

2. Visit the FAA's Regulations and Policies web page at https://www.faa.gov/regulations_policies/ or

3. Access the Government Printing Office's web page at https://www.govinfo.gov/.

Copies may also be obtained by sending a request (identified by notice, amendment, or docket number of this rulemaking) to the Federal Aviation Administration, Office of Rulemaking, ARM-1, 800 Independence Avenue SW, Washington, DC 20591, or by calling (202) 267-9677.

B. Small Business Regulatory Enforcement Fairness Act

The Small Business Regulatory Enforcement Fairness Act (SBREFA) of 1996 requires FAA to comply with small entity requests for information or advice about compliance with statutes and regulations within its jurisdiction. A small entity with questions regarding this document, may contact its local FAA official, or the person listed under the FOR FURTHER INFORMATION CONTACT heading at the beginning of the preamble. To find out more about SBREFA, visit https://www.faa.gov/regulations_policies/rulemaking/sbre_act/.

List of Subjects

14 CFR Part 21

Aircraft, Aviation safety, Exports, Imports, Reporting and recordkeeping requirements.

14 CFR Part 61

Aircraft, Airmen, Aviation safety, Reporting and recordkeeping requirements, Security measures, Teachers.

14 CFR Part 63

Aircraft, Airman, Aviation safety, Navigation (air), Reporting and recordkeeping requirements, Security measures.

14 CFR Part 65

Air traffic controllers, Aircraft, Airmen, Airports, Aviation safety, Reporting and recordkeeping requirements, Security measures.

14 CFR Part 91

Air carrier, Air taxis, Air traffic control, Aircraft, Airmen, Airports, Aviation safety, Charter flights, Freight, Reporting and recordkeeping requirements, Transportation.

14 CFR Part 107

Aircraft, Airmen, Aviation safety, Reporting and recordkeeping requirements, Security measures, Signs and symbols.

14 CFR Part 125

Aircraft, Airmen, Aviation safety, Reporting and recordkeeping requirements.

14 CFR Part 141

Airmen, Educational facilities, Reporting and recordkeeping requirements, Schools.

The Amendment

In consideration of the foregoing, the Federal Aviation Administration amends chapter I of title 14, Code of Federal Regulations, as follows:

PART 21—CERTIFICATION PROCEDURES FOR PRODUCTS AND ARTICLES

1. The authority citation for part 21 continues to read as follows:

Authority: 42 U.S.C. 7572; 49 U.S.C. 106(f), 106(g), 40105, 40113, 44701-44702, 44704, 44707, 44709, 44711, 44713, 44715, 45303.

2. Add Special Federal Aviation Regulation (SFAR) No. 118 to part 21 to read as follows:

Special Federal Aviation Regulation No. 118—Relief for Certain Persons During the Coronavirus Disease 2019 (COVID-19) Outbreak

For the text of SFAR No. 118, see part 61 of this chapter.

PART 61—CERTIFICATION: PILOTS, FLIGHT INSTRUCTORS, AND GROUND INSTRUCTORS

3. The authority citation for part 61 continues to read as follows:

Authority: 49 U.S.C. 106(f), 106(g), 40113, 44701-44703, 44707, 44709-44711, 44729, 44903, 45102-45103, 45301-45302; Sec. 2307 Pub. L. 114-190, 130 Stat. 615 (49 U.S.C. 44703 note).

4. Add Special Federal Aviation Regulation (SFAR) No. 118 to part 61 to read as follows:

Special Federal Aviation Regulation No. 118—Relief for Certain Persons During the Coronavirus Disease 2019 (COVID-19) Outbreak

1. Applicability. This Special Federal Aviation Regulation (SFAR) applies to—

(a) Certain persons who are unable to meet the following requirements during some period of time between March 1, 2020 and June 30, 2020—

(1) Training, recency, testing, and checking requirements specified in this part, parts 91, 107, and 125 of this chapter, and SFAR No. 73 of this part; and

(2) Duration and renewal requirements specified in this part, parts 63, 65, and 141 of this chapter, and SFAR No. 100-2 of this part; and

(b) Certain air carriers and operators who are unable to obtain special flight permits with a continuing authorization under part 21 of this chapter for the purpose of flying the aircraft to a point of storage.

2. Training, recency, testing, and checking requirements.

(a) Applicability. The relief provided by paragraph 2 of this SFAR applies to—

(1) Operations conducted for compensation or hire under parts 91, 125, 133, and 137 of this chapter by persons who are exercising the privileges of at least a commercial pilot certificate issued under this part;

(2) Operations conducted by persons who are exercising the privileges of a private pilot certificate issued under this part, provided the person meets one of the following paragraphs—

(i) The person is conducting a charitable medical flight for a volunteer pilot organization pursuant to an exemption issued under part 11 of this chapter, and the flight involves only the carriage of persons considered essential for the flight;

(ii) The person is conducting an agricultural aircraft operation under a private agricultural aircraft operating certificate issued in accordance with § 137.19 of this chapter;

(iii) The person has at least 500 hours of total time as a pilot, that includes at least 400 hours as a pilot in command and at least 50 hours that were accrued within the preceding 12 calendar months, and the person is conducting one of the following operations consistent with the compensation or hire prohibitions specified in § 61.113:

(A) A flight incidental to that person's business or employment;

(B) A flight in support of family medical needs or to transport essential goods for personal use;

(C) A flight necessary to fly an aircraft to a location in order to meet a requirement of this chapter; or

(D) A flight to transport essential goods and medical supplies to support public health needs;

(3) For operations conducted under part 91, subpart K, and part 125 of this chapter, persons who are serving as flight attendant crewmembers, check pilots, and flight instructors; and

(4) Operations conducted under part 107 of this chapter by a person who holds a remote pilot certificate issued under part 107 of this chapter.

(b) This Part.

(1) Second-in-command qualifications of § 61.55.

(i) Notwithstanding the period specified in § 61.55(c), a person who is required to complete the second-in-command familiarization and currency requirements under § 61.55(b)(1) and (2) between March 1, 2020 and June 30, 2020 for purposes of maintaining second-in-command privileges may complete the requirements of § 61.55(b)(1) and (2) in the month before or three months after the month in which they are required, provided the pilot meets the requirements of paragraph 2.(b)(1)(ii) of this SFAR. A pilot who meets the requirements of § 61.55(b)(1) and (2) within the period prescribed by this paragraph 2.(b)(1)(i) will be considered to have completed the requirements in the month in which they were due.

(ii) Qualification requirements. To complete the requirements of § 61.55(b)(1) or (2) within the period specified in paragraph 2.(b)(1)(i) of this SFAR, the person—

(A) Must review and become familiar with the following information for the specific type of aircraft for which second-in-command privileges are sought—

(1) Operational procedures applicable to the powerplant, equipment, and systems;

(2) Performance specifications and limitations;

(3) Normal, abnormal, and emergency operating procedures;

(4) Flight manual; and

(5) Placards and markings; and

(B) Prior to serving as second-in-command, must have logged at least three takeoffs and landings to a full stop as the sole manipulator of the flight controls within the 180 days preceding the date of the flight.

(2) Flight review requirements of § 61.56. A person who has not completed a flight review within the previous 24 calendar months in accordance with § 61.56 may continue to act as pilot in command of an aircraft, provided the following requirements are met—

(i) Airmen requirements. The person was current to act as pilot in command of an aircraft in March 2020 and, to maintain currency, is required to complete a flight review under § 61.56 between March 1, 2020 and June 30, 2020.

(ii) Qualification requirements. To act as pilot in command of an aircraft during the period specified in paragraph 2(b)(2)(iii) of this SFAR, the person must have—

(A) Within the 12 calendar months preceding the month in which the flight review is due, logged at least 10 hours of flight time as pilot in command in an aircraft for which that pilot is rated; and

(B) Since January 1, 2020 and preceding the date of flight, completed online Wings courses for pilots from the FAA Safety Team website, available at https://www.faasafety.gov. The online training courses must total at least 3 Wings credits.

(iii) Grace period. The person may act as pilot in command of an aircraft for a duration of three calendar months from the month in which the flight review was due. Before acting as pilot in command of an aircraft in the fourth month after the month in which the flight review was due, the person must satisfactorily complete a flight review in accordance with § 61.56.

(3) Instrument experience requirements of § 61.57. A person who has not performed and logged the tasks required by § 61.57(c)(1) within the 6 calendar months preceding the month of the flight may continue to act as pilot in command under IFR or in weather conditions less than the minimums prescribed for VFR, provided the following requirements are met—

(i) Qualification requirements. The person has—

(A) Within the 6 calendar months preceding the month of the flight, performed and logged at least three instrument approaches in actual weather conditions, or under simulated conditions using a view-limiting device; and

(B) Within the 9 calendar months preceding the month of the flight, performed and logged the tasks required by § 61.57(c)(1).

(ii) Grace period. Between April 30, 2020 and June 30, 2020, a person who meets the qualification requirements of paragraph 2.(b)(3)(i) of this SFAR may act as pilot in command under IFR or in weather conditions less than the minimums prescribed for VFR.

(iii) Instrument currency after June 30, 2020. Before acting as pilot in command under IFR or in weather conditions less than the minimums prescribed for VFR after June 30, 2020, the person must comply with § 61.57(c).

(4) Pilot in command proficiency check requirements of § 61.58.

(i) Notwithstanding the period specified in § 61.58(i), a pilot who is required to take a pilot in command proficiency check under § 61.58(a)(1) or (2) between March 1, 2020 and June 30, 2020 for purposes of maintaining pilot in command privileges may complete the check in the month before or three months after the month in which it is required, provided the pilot meets the requirements of paragraph 2.(b)(4)(ii) of this SFAR. A pilot who completes the proficiency check within the period prescribed by this paragraph 2.(b)(4)(i) will be considered to have completed the check in the month in which it was required.

(ii) Qualification requirements. To complete the pilot in command proficiency check required by § 61.58(a)(1) or (2) within the period specified in paragraph 2.(b)(4)(i) of this SFAR, the person—

(A) Must meet the flight experience requirements of § 61.57 that are applicable to the operation to be conducted; and

(B) Within the 3 calendar months preceding the month of the flight, must have reviewed the following information for the specific type of aircraft for which pilot in command privileges are sought—

(1) Operational procedures applicable to the powerplant, equipment, and systems;

(2) Performance specifications and limitations;

(3) Normal, abnormal, and emergency operating procedures;

(4) Flight manual; and

(5) Placards and markings.

(5) Flight Crewmember Requirements of Part 91, Subpart K, of this Chapter.

(i) Testing and checking requirements. Notwithstanding the period specified in § 91.1071(a) of this chapter, a crewmember who is required to take a test or a flight check under § 91.1065(a), § 91.1065(b), § 91.1067, § 91.1069(a), or § 91.1069(b) of this chapter between March 1, 2020 and June 30, 2020 for purposes of maintaining qualification may complete the test or check in the month before or three months after the month it is required, provided the requirements of paragraph 2.(b)(5)(vi) of this SFAR are met. A crewmember who completes a test or check in accordance with this paragraph 2.(b)(5)(i) will be considered to have completed the test or check in the month in which it was required.

(ii) Recurrent training requirements. Notwithstanding the period specified in § 91.1073(b) of this chapter, a crewmember who is required to complete recurrent training under § 91.1099 or § 91.1107(c) of this chapter between March 1, 2020 and June 30, 2020 for purposes of maintaining qualification may complete that training in the month before or three months after the month in which it is required, provided the requirements of paragraph 2.(b)(5)(vi) of this SFAR are met. A crewmember who completes recurrent training in accordance with this paragraph 2.(b)(5)(ii) will be considered to have completed the training in the month in which it was required.

(iii) Instrument experience.

(A) Precision instrument approaches. A pilot who has not satisfactorily demonstrated the type of precision instrument approach procedure to be used within the previous six months in accordance with § 91.1069(c) of this chapter may continue to use that type of approach procedure, provided the following requirements are met—

(1) Airmen requirements. The person was current under § 91.1069(c) of this chapter to use that type of precision instrument approach procedure in March 2020, and is required to demonstrate that type of precision instrument approach procedure between March 1, 2020 and June 30, 2020.

(2) Grace period. The person satisfactorily demonstrates that type of precision instrument approach procedure within three months after the month in which it was required.

(3) Safety mitigations. The management specification holder satisfies paragraph 2.(b)(5)(vi) of this SFAR.

(B) Non-precision instrument approaches. A pilot who has not satisfactorily demonstrated either the type of non-precision instrument approach procedure to be used, or any other two different types of non-precision approach procedures, within the previous six months in accordance with § 91.1069(c) of this chapter may continue to use that type of non-precision instrument approach procedure, provided the following requirements are met—

(1) Airmen requirements. The person was current under § 91.1069(c) of this chapter to use that type of non-precision instrument approach procedure in March 2020, and is required to demonstrate that type of non-precision instrument approach procedure, or any other two different types of non-precision instrument approach procedures, between March 1, 2020 and June 30, 2020.

(2) Grace period. The person satisfactorily demonstrates that type of non-precision instrument approach procedure within three months after the month in which it was required.

(3) Safety mitigations. The management specification holder satisfies paragraph 2.(b)(5)(vi) of this SFAR.

(iv) Check pilot (simulator) and flight instructor (simulator) requirements. Notwithstanding the period specified in §§ 91.1089(g) and 91.1091(g) of this chapter, a check pilot (simulator) or flight instructor (simulator) who is required to complete the flight segments or line-observation program under § 91.1089(f) or § 91.1091(f) of this chapter between March 1, 2020 and June 30, 2020 for purposes of maintaining qualification may complete the flight segments or line-observation program requirements in the month before or three months after the month they are required, provided the requirements of paragraph 2.(b)(5)(vi) of this SFAR are met. A check pilot (simulator) or flight instructor (simulator) who completes the flight segments or line-observation program requirements in accordance with this paragraph 2.(b)(5)(iv) will be considered to have completed the requirements in the month in which they were due.

(v) Check pilot and flight instructor observation check requirements. Notwithstanding the period specified in §§ 91.1093(b) and 91.1095(b) of this chapter, a check pilot or flight instructor who is required to complete an observation check under § 91.1093(a)(2) or § 91.1095(a)(2) of this chapter between March 1, 2020 and June 30, 2020 for purposes of maintaining qualification may complete the observation check in the month before or three months after the month it is required, provided the requirements of paragraph 2.(b)(5)(vi) of this SFAR are met. A check pilot or flight instructor who completes an observation check in accordance with this paragraph 2.(b)(5)(v) will be considered to have completed the check in the month in which it was due.

(vi) Safety mitigations. The management specification holder must provide an acceptable plan to the responsible Flight Standards office that contains the following information—

(A) A safety analysis and corresponding risk mitigations to be implemented by the management specification holder; and

(B) The method the management specification holder will use to ensure that each crewmember complying with paragraph 2.(b)(5) of this SFAR remains adequately tested and currently proficient for each aircraft, duty position, and type of operation in which the person serves.

(6) Mitsubishi MU-2B Series Special Training, Experience, and Operating Requirements of Part 91, Subpart N, of this Chapter.

(i) Recurrent training. Notwithstanding the period specified in § 91.1705(e) of this chapter, a person who is required to complete recurrent training under § 91.1703(e) of this chapter between March 1, 2020 and June 30, 2020 for purposes of complying with § 91.1705(a) and (b) may complete the recurrent training in the month before or three months after the month the recurrent training is required, provided the requirements of paragraph 2.(b)(6)(iii) of this SFAR are met. A person who completes the recurrent training in accordance with this paragraph 2.(b)(6)(i) will be considered to have completed the training in the month it was required.

(ii) Flight review. A person who has not completed a flight review in accordance with §§ 61.56 and 91.1715(c) of this chapter in a Mitsubishi MU-2B series airplane or an MU-2B Simulator approved for landings with an approved course conducted under part 142 of this chapter may continue to act as pilot in command of a Mitsubishi MU-2B series airplane, providing the following requirements are met—

(A) Airmen requirements. The person was—

(1) Current to act as pilot in command of a Mitsubishi MU-2B series airplane in March 2020 and, to maintain currency, is required to complete a flight review in a Mitsubishi MU-2B series airplane between March 1, 2020 and June 30, 2020; and

(2) The requirements of paragraph 2.(b)(6)(iii) of this SFAR are met.

(B) Grace period. The person may act as pilot in command of a Mitsubishi MU-2B series airplane for a duration for three calendar months from the month in which the flight review was due. Before acting as pilot in command of an aircraft in the fourth month after the month in which the flight review was due, the person must satisfactorily complete a flight review in accordance with §§ 61.56 and 91.1715(c) of this chapter in a Mitsubishi MU-2B series airplane or an MU-2B Simulator approved for landings with an approved course conducted under part 142 of this chapter.

(iii) Qualification requirements. To complete the recurrent training or flight review during the grace period provided under paragraph 2.(b)(6) of this SFAR, the person must—

(A) Within the 12 calendar months preceding the month the recurrent training or flight review is due, have logged at least 10 hours of flight time as sole manipulator of the controls in an MU-2B series airplane that includes at least 3 hours of flight time in the 3 calendar months preceding the month in which the recurrent training or flight review is due;

(B) Since January 1, 2020, have completed online Wings courses for pilots from FAA Safety Team website, available at https://www.faasafety.gov/. The online training courses must total at least 3 Wings credits; and

(C) Prior to manipulating the controls of an MU-2B series airplane, have completed three hours of self-study, since January 1, 2020 and preceding the date of the flight, on the following subjects—

(1) The ground training curriculum required by § 91.1705(h)(1) of this chapter;

(2) The Special Emphasis Items listed in the approved MU-2B training program that the pilot last completed;

(3) The limitations, procedures, aircraft performance, and MU-2B Cockpit Checklist procedures applicable to the MU-2B model to be flown, which are contained in the flight training curriculum required by § 91.1705(h)(2) of this chapter; and

(4) The current general operating and flight rules of part 91 of this chapter.

(7) Aeronautical Knowledge Recency Requirements of § 107.65 of this Chapter. A person who has not satisfied the aeronautical knowledge recency requirements of § 107.65(a) or (b) of this chapter within the previous 24 calendar months may operate a small unmanned aircraft system under part 107 of this chapter, provided that person meets the following requirements—

(i) Airmen requirements. The person was current to exercise the privileges of a remote pilot certificate in March 2020 and, to maintain aeronautical currency, is required to meet the aeronautical recency requirements in § 107.65(a) or (b) of this chapter between April 1, 2020 and June 30, 2020.

(ii) Qualification requirements. The person must have completed an FAA-developed initial or recurrent online training course, available at https://www.faasafety.gov, covering the areas of knowledge specified in § 107.74(a) or (b) of this chapter. Each person is eligible to take an online training course specified in this paragraph 2.(b)(7)(ii) one time for the purpose of obtaining the six calendar month grace period specified in paragraph 2.(b)(7)(iii) of this SFAR.

(iii) Grace period. The person may operate a small unmanned aircraft system under part 107 of this chapter for a duration of six calendar months from the month in which the person completed the online training course specified in paragraph 2.(b)(7)(ii) of this SFAR. Before operating a small unmanned aircraft system under part 107 in the seventh month after the month in which the person completed the online training course, the person must satisfy § 107.65 of this chapter.

(8) Flight Crewmember Requirements of Part 125 of this Chapter.

(i) Recent experience requirements. A person who has not satisfied the recent experience requirements of § 125.285(a) of this chapter may be used by a certificate holder (or holder of an A125 letter of deviation authority), and may serve as a required pilot flight crewmember, in operations conducted under part 125 of this chapter, provided the following requirements are met—

(A) Grace period. The person has made at least three takeoffs and landings, within the preceding 150 days, in the type of airplane in which that person is to serve.

(B) Safety Mitigations. The certificate holder complies with paragraph 2.(b)(8)(iii) of this SFAR.

(ii) Testing and checking requirements. Notwithstanding the period specified in § 125.293(a) of this chapter, a crewmember who is required to take a test or check under § 125.287(a), § 125.287(b), § 125.289, or § 125.291(a) of this chapter between March 1, 2020 and June 30, 2020 for purposes of maintaining qualifications may complete the test or check in the month before or three months after the month it is required, provided the requirements of paragraph 2.(b)(8)(iii) of this SFAR are met. A crewmember who completes the test or check in accordance with this paragraph 2.(b)(8)(ii) will be considered to have completed the test or check in the month in which it was required.

(iii) Safety mitigations. The certificate holder (or holder of an A125 letter of deviation authority) must provide an acceptable plan to its assigned principal operations inspector that contains the following information—

(A) A safety analysis and corresponding risk mitigations to be implemented by the certificate holder (or holder of an A125 letter of deviation authority); and

(B) The method the certificate holder (or holder of an A125 letter of deviation authority) will use to ensure that each crewmember complying with paragraph 2.(b)(8) of this SFAR remains adequately tested and currently proficient for each aircraft, duty position, and type of operation in which the person serves.

(9) Robinson R-22/R-44 Special Training and Experience Requirements of SFAR No. 73 of this Part. A person who has not completed a flight review in a Robinson model R-22 or R-44 helicopter, as appropriate, within the preceding 24 calendar months in accordance with paragraph 2(c) of SFAR No. 73 and § 61.56, may continue to act as pilot in command of a Robinson model R-22 or R-44 helicopter, as appropriate, providing the following requirements are met—

(i) Airmen requirements. The person was current to act as pilot in command of a Robinson model R-22 or R-44 helicopter, as appropriate, in March 2020 and, to maintain currency, is required to complete a flight review in a Robinson model R-22 or R-44 helicopter, as appropriate, between March 1, 2020 and June 30, 2020.

(ii) Qualification requirements. The person must—

(A) Satisfy the qualification requirements specified in paragraph 2.(b)(2)(ii) of this SFAR, except that—

(1) The 10 hours of flight time as pilot in command must be obtained in a Robinson model R-22 or R-44 helicopter, as appropriate to the privileges sought;

(2) At least 3 hours of flight time must be obtained within the 3 calendar months preceding the month in which the flight review is due; and

(3) The courses required by paragraph 2.(b)(9)(ii)(C) and (D) of this SFAR may count towards the 3 Wings credits.

(B) Complete three hours of self-study, since January 1, 2020 and preceding the date of flight, on the following subjects—

(1) The awareness training subject areas specified in paragraph 2(a)(3)(i) through (v) of SFAR No. 73 of this part;

(2) The current general operating and flight rules of part 91 of this chapter; and

(3) Robinson R-22 or R-44 Maneuvers Guide, as applicable to the model(s) in which the airmen holds pilot in command privileges;

(C) Complete Course ALC-103: Helicopter Weight and Balance, Performance at https://www.faasafety.gov; and

(D) Complete Course ALC-104: Helicopter—General and Flight Aerodynamics at https://www.faasafety.gov/.

(iii) Grace period. A person may act as a pilot in command of a Robinson model R-22 or R-44 helicopter, as appropriate, for a duration of three calendar months from the month in which the flight review was due. Before acting as pilot in command of an aircraft in the fourth month after the month in which the flight review was due, the person must satisfactorily complete a flight review in a Robinson model R-22 or R-44 helicopter, as appropriate to the privileges sought, in accordance with paragraph 2(c) of SFAR No. 73 of this part and § 61.56.

(10) Operations outside the United States. Unless otherwise prohibited by a foreign country, a person may operate outside of the United States under the relief provided by paragraph 2 of this SFAR if the person—

(i) Has access to this SFAR when outside the United States; and

(ii) Presents a copy of this SFAR for inspection upon request by a foreign Civil Aviation Authority in accordance with the Convention on International Civil Aviation (Chicago Convention), and its Annexes.

3. Duration and renewal requirements.

(a) This Part.

(1) Extension of medical certificate duration requirements. Notwithstanding the duration requirements for medical certificates specified in § 61.23(d), the expiration date of a first-, second-, or third-class medical certificate that expires between March 31, 2020 and May 31, 2020 is extended through June 30, 2020. A certificate extended under this paragraph 3.(a)(1) is considered valid under § 61.2(a)(5). Unless otherwise prohibited by a foreign country, a person may operate outside of the United States under this paragraph 3.(a)(1) if the person—

(i) Has access to this SFAR when outside the United States; and

(ii) Presents a copy of this SFAR for inspection upon request by a foreign Civil Aviation Authority in accordance with the Convention on International Civil Aviation (Chicago Convention), and its Annexes.

(2) Extension of knowledge test duration requirements in § 61.39. An applicant for a certificate or rating issued under this part may satisfy the eligibility requirement in § 61.39(a)(1) by passing the required knowledge test—

(i) Within the 27 calendar month period preceding the month the applicant completes the practical test, if a knowledge test is required, provided the knowledge test was passed between March 1, 2018 and June 30, 2018; or

(ii) Within the 63 calendar month period preceding the month the applicant completes the practical test for those applicants who complete the airline transport pilot certification training program in § 61.156 and pass the knowledge test for an airline transport pilot certificate with a multiengine class rating, provided the knowledge test was passed between March 1, 2015 and June 30, 2015.

(3) Extension of renewal requirements for flight instructor certification. The holder of a flight instructor certificate that expires between March 31, 2020 and May 31, 2020 may renew his or her flight instructor certificate by submitting a completed and signed application to the FAA and satisfactorily completing one of the renewal requirements specified in § 61.197(a)(2)(i) through (iv) before June 30, 2020.

(b) Part 63 of this Chapter.

(1) Extension of medical certificate duration requirements. For a person acting as a flight engineer of an aircraft, the expiration date of a second-class (or higher) medical certificate that expires between March 31, 2020 and May 31, 2020 is extended through June 30, 2020. Unless otherwise prohibited by a foreign country, a person may operate outside of the United States under this paragraph 3.(b)(1) if the person:

(i) Has access to this SFAR when outside the United States; and

(ii) Presents a copy of this SFAR for inspection upon request by a foreign Civil Aviation Authority in accordance with the Convention on International Civil Aviation (Chicago Convention), and its Annexes.

(2) Extension of written test duration requirements in § 63.35 of this chapter. An applicant for a flight engineer certificate or rating may satisfy the knowledge requirement in § 63.35(d) of this chapter by passing the required written test within the 27 calendar month period preceding the month the applicant completes the practical test, provided the written test was passed between March 1, 2018 and June 30, 2018.

(c) Part 65 of this Chapter.

(1) Extension of knowledge test duration requirements in § 65.55 of this chapter. An applicant for an aircraft dispatcher certificate may satisfy the knowledge requirement in § 65.55(b) of this chapter by presenting satisfactory evidence that the applicant passed the knowledge test within the 27 calendar month period preceding the month the applicant completes the practical test, provided the knowledge test was passed between March 1, 2018 and June 30, 2018.

(2) Extension of testing period in § 65.71 of this chapter. A person may show eligibility for a mechanic certificate or rating under § 65.71 of this chapter by passing all of the prescribed tests of part 65, subpart D, of this chapter within a period of 27 months, provided the testing period began between March 1, 2018 and June 30, 2018.

(3) Renewal of inspection authorizations in § 65.93 of this chapter.

(i) Grace period for meeting renewal requirements. Notwithstanding the requirement in § 65.93(c) of this chapter, an inspection authorization holder who did not complete one of the activities in § 65.93(a)(1) through (5) of this chapter by March 31, 2020 of the first year may still be eligible for renewal of an inspection authorization for a 2-year period in March 2021. To be eligible for renewal, the inspection authorization holder must show completion of one of the five activities in § 65.93(a)(1) through (5) of this chapter by June 30, 2020, and completion of the one of the five activities in § 65.93(a)(1) through (5) of this chapter during the second year of the 2-year period. A person who completes one of the five activities by June 30, 2020 will be considered to have completed the activity by March 31, 2020 of the first year for purposes of determining eligibility under § 65.93 of this chapter.

(ii) Inspection authorization privileges after June 2020. If the inspection authorization holder does not complete one of the five activities in § 65.93(a)(1) through (5) of this chapter by June 30, 2020, the inspection authorization holder may not exercise inspection authorization privileges after June 30, 2020. The inspection authorization holder may resume exercising inspection authorization privileges only after passing an oral test from an FAA inspector in accordance with § 65.93(c) of this chapter.

(4) Military riggers or former military riggers: Special certification rule of § 65.117 of this chapter. A person may satisfy the requirements of § 65.117(a) and (b) of this chapter for a senior parachute rigger certificate by presenting satisfactory documentary evidence that the person was honorably discharged or released from any status covered by § 65.117(a) of this chapter between March 2019 and June 2019, and has served as a parachute rigger for an Armed Force within the 15 months before the date of application.

(d) Relief for U.S. Military and Civilian Personnel Who are Assigned Outside the United States in Support of U.S. Armed Forces Operations. Notwithstanding the 6 calendar month period specified in paragraph 2 of SFAR No. 100-2 of this part, a person may exercise the relief specified in paragraph 1 of SFAR No. 100-2 for a duration of 9 calendar months after returning to the United States, provided the person—

(1) Is eligible in accordance with paragraph 2 of SFAR No. 100-2 of this part;

(2) Complies with the documentation requirements specified in paragraph 3 of SFAR No. 100-2 of this part; and

(3) Returned to the United States from deployment between October 2019 and March 2020.

(e) Part 141 of this Chapter.

(1) Pilot school certificate requirements of § 141.5 of this chapter.

(i) Provisional pilot school. Notwithstanding the period specified in § 141.5 of this chapter, a provisional pilot school may apply for, and the FAA may issue, a pilot school certificate with the appropriate ratings if the following requirements are met—

(A) The provisional pilot school must satisfy the requirements of § 141.5(a) through (e) of this chapter before December 31, 2020;

(B) The provisional pilot school certificate must expire between April 2020 and June 2020; and

(C) The provisional pilot school meets the requirements of paragraph 3.(e)(1)(ii) of this SFAR.

(ii) Safety mitigations.

(A) The provisional pilot school must notify its responsible Flight Standards office that it is applying for a pilot school certificate in accordance with this SFAR.

(B) Each provisional pilot school must include in its notification an acceptable plan that explains the method to meet the requirements of § 141.5(d) and (e) of this chapter, including—

(1) Ensuring each instructor used for ground or flight training is current and proficient; and

(2) Evaluating students to determine if they are assigned to the proper stage of the training course and if additional training is necessary.

(2) Renewal of certificates and ratings in § 141.27 of this chapter.

(i) Pilot school. A pilot school may apply for renewal of its pilot school certificate and ratings after the expiration of its pilot schools certificate, provided the school applies for renewal before December 31, 2020 and the following requirements are met—

(A) The pilot school must meet § 141.27(a)(2) of this chapter before December 31, 2020;

(B) The pilot school certificate must expire between April 2020 and June 2020; and

(C) The pilot school meets the requirements of paragraph 3.(e)(2)(ii) of this SFAR.

(ii) Safety mitigations.

(A) Each pilot school must submit to the responsible Flight Standards office notification that it will renew its pilot school certificate in accordance with this SFAR.

(B) Each pilot school must include in its notification an acceptable plan that explains the method to regain currency, including—

(1) Ensuring each instructor used for ground or flight training is current and proficient; and

(2) Evaluating students to determine if they are assigned to the proper stage of the training course and if additional training is necessary.

4. Other relief for special flight permits issued under § 21.197(c) of this chapter. In addition to the purposes specified in § 21.197(c) of this chapter, notwithstanding §§ 119.5(l) and 91.1015(a) of this chapter, a special flight permit with a continuing authorization may be issued under § 21.197(c) of this chapter through December 31, 2020 for aircraft that may not meet applicable airworthiness requirements, but are capable of safe flight for the purpose of flying the aircraft to a point of storage, provided the following requirements are met—

(a) The air carrier or operator must hold a special flight permit with continuing authorization to conduct a ferry flight program issued under § 21.197(c) of this chapter; and

(b) The certificate holder or management specification holder must notify the responsible Flight Standards office each time the special flight permit is used for the purpose of flying the aircraft to a point of storage.

5. Expiration date. This SFAR is effective until March 31, 2021. The FAA may amend, rescind, or extend the SFAR as necessary.

PART 63—CERTIFICATION: FLIGHT CREWMEMBERS OTHER THAN PILOTS

5. The authority citation for part 63 continues to read as follows:

Authority: 49 U.S.C. 106(f), 106(g), 40113, 44701-44703, 44707, 44709-44711, 45102-45103, 45301-45302.

6. Add Special Federal Aviation Regulation (SFAR) No. 118 to part 63 to read as follows:

Special Federal Aviation Regulation No. 118—Relief for Certain Persons During the Coronavirus Disease 2019 (COVID-19) Outbreak

For the text of SFAR No. 118, see part 61 of this chapter.

PART 65—CERTIFICATION: AIRMEN OTHER THAN FLIGHT CREWMEMBERS

7. The authority citation for part 65 continues to read as follows:

Authority: 49 U.S.C. 106(f), 106(g), 40113, 44701-44703, 44707, 44709-44711, 45102-45103, 45301-45302.

8. Add Special Federal Aviation Regulation (SFAR) No. 118 to part 65 to read as follows:

Special Federal Aviation Regulation No. 118—Relief for Certain Persons During the Coronavirus Disease 2019 (COVID-19) Outbreak

For the text of SFAR No. 118, see part 61 of this chapter.

PART 91—GENERAL OPERATING AND FLIGHT RULES

9. The authority citation for part 91 continues to read as follows:

Authority: 49 U.S.C. 106(f), 106(g), 40101, 40103, 40105, 40113, 40120, 44101, 44111, 44701, 44704, 44709, 44711, 44712, 44715, 44716, 44717, 44722, 46306, 46315, 46316, 46504, 46506-46507, 47122, 47508, 47528-47531, 47534, Public Law 114-190, 130 Stat. 615 (49 U.S.C. 44703 note); articles 12 and 29 of the Convention on International Civil Aviation (61 Stat. 1180), (126 Stat. 11).

10. Add Special Federal Aviation Regulation (SFAR) No. 118 to part 91 to read as follows:

Special Federal Aviation Regulation No. 118—Relief for Certain Persons During the Coronavirus Disease 2019 (COVID-19) Outbreak

For the text of SFAR No. 118, see part 61 of this chapter.

PART 107—SMALL UNMANNED AIRCRAFT SYSTEMS

11. The authority citation for part 107 continues to read as follows:

Authority: 49 U.S.C. 106(f), 40101 note, 40103(b), 44701(a)(5); Sec. 333 of Pub. L. 112-95, 126 Stat. 75.

12. Add Special Federal Aviation Regulation (SFAR) No. 118 to part 107 to read as follows:

Special Federal Aviation Regulation No. 118—Relief for Certain Persons During the Coronavirus Disease 2019 (COVID-19) Outbreak

For the text of SFAR No. 118, see part 61 of this chapter.

PART 125—CERTIFICATION AND OPERATIONS: AIRPLANES HAVING A SEATING CAPACITY OF 20 OR MORE PASSENGERS OR A MAXIMUM PAYLOAD CAPACITY OF 6,000 POUNDS OR MORE; AND RULES GOVERNING PERSONS ON BOARD SUCH AIRCRAFT

13. The authority citation for part 125 continues to read as follows:

Authority: 49 U.S.C. 106(f), 106(g), 40113, 44701-44702, 44705, 44710-44711, 44713, 44716-44717, 44722.

14. Add Special Federal Aviation Regulation (SFAR) No. 118 to part 125 to read as follows:

Special Federal Aviation Regulation No. 118—Relief for Certain Persons During the Coronavirus Disease 2019 (COVID-19) Outbreak

For the text of SFAR No. 118, see part 61 of this chapter.

PART 141—PILOT SCHOOLS

15. The authority citation for part 141 continues to read as follows:

Authority: 49 U.S.C. 106(f), 106(g), 40113, 44701-44703, 44707, 44709, 44711, 45102-45103, 45301-45302.

16. Add Special Federal Aviation Regulation (SFAR) No. 118 to part 141 to read as follows:

Special Federal Aviation Regulation No. 118—Relief for Certain Persons During the Coronavirus Disease 2019 (COVID-19) Outbreak

For the text of SFAR No. 118, see part 61 of this chapter.

Issued under authority provided by 49 U.S.C. 106(f), 44701(a), and 44703 in Washington, DC, on April 29, 2020.
Steve Dickson,
Administrator, Federal Aviation Administration.

[FR Doc. 2020-09472 Filed 4-30-20; 4:15 pm]

BILLING CODE 4910-13-P